DEPARTMENT OF COMMERCE

National Oceanic and Atmospheric Administration

50 CFR Part 679

[Docket No. 101126522-0640-02]

RIN 0648-XZ89

Fisheries of the Exclusive Economic Zone Off Alaska; Gulf of Alaska; Final 2011 and 2012 Harvest Specifications for Groundfish

AGENCY: National Marine Fisheries Service (NMFS), National Oceanic and Atmospheric Administration (NOAA), Commerce.

ACTION: Final rule; closures.

SUMMARY: NMFS announces final 2011 and 2012 harvest specifications, apportionments, and Pacific halibut prohibited species catch limits for the groundfish fishery of the Gulf of Alaska (GOA). This action is necessary to establish harvest limits for groundfish during the 2011 and 2012 fishing years and to accomplish the goals and objectives of the Fishery Management Plan for Groundfish of the GOA. The intended effect of this action is to conserve and manage the groundfish resources in the GOA in accordance with the Magnuson-Stevens Fishery Conservation and Management Act.

DATES: Effective at 1200 hrs, Alaska local time (A.l.t.), March 1, 2011, through 2400 hrs, A.l.t., December 31, 2012.

ADDRESSES: Electronic copies of the Final Alaska Groundfish Harvest Specifications Environmental Impact Statement (EIS), Record of Decision (ROD), Supplementary Information Report (SIR) to the EIS, and the Final Regulatory Flexibility Analysis (FRFA) prepared for this action are available from http://alaskafisheries.noaa.gov. The final 2010 Stock Assessment and Fishery Evaluation (SAFE) report for the groundfish resources of the GOA, dated November 2010, is available from the North Pacific Fishery Management Council (Council) at 605 West 4th Avenue, Suite 306, Anchorage, AK 99510-2252, phone 907-271-2809, or from the Council's Web site at http://alaskafisheries.noaa.gov/npfmc.

FOR FURTHER INFORMATION CONTACT: Tom Pearson, 907-481-1780, or Obren Davis, 907-586-7228.

SUPPLEMENTARY INFORMATION: NMFS manages the GOA groundfish fisheries in the exclusive economic zone (EEZ) of the GOA under the Fishery Management Plan for Groundfish of the Gulf of Alaska (FMP). The Council prepared the FMP under the authority of the Magnuson-Stevens Fishery Conservation and Management Act (Magnuson-Stevens Act), 16 U.S.C. 1801 et seq. Regulations governing U.S. fisheries and implementing the FMP appear at 50 CFR parts 600, 679, and 680.

The FMP and its implementing regulations require NMFS, after consultation with the Council, to specify the total allowable catch (TAC) for each target species, the sum of which must be within the optimum yield (OY) range of 116,000 to 800,000 metric tons (mt). Section 679.20(c)(1) further requires NMFS to publish and solicit public comment on proposed annual TACs, halibut prohibited species catch (PSC) amounts, and seasonal allowances of pollock and inshore/offshore Pacific cod. Upon consideration of public comment received under § 679.20(c)(1), NMFS must publish notice of final harvest specifications for up to two fishing years as annual target TAC, per § 679.20(c)(3)(ii). The final harvest specifications set forth in Tables 1 through 25 of this document reflect the outcome of this process, as required at § 679.20(c).

The proposed 2011 and 2012 harvest specifications for groundfish of the GOA and Pacific halibut PSC allowances were published in the Federal Register on December 8, 2010 (75 FR 76352). Comments were invited and accepted through January 7, 2011. NMFS did not receive any comments on the proposed harvest specifications. In December 2010, NMFS consulted with the Council regarding the 2011 and 2012 harvest specifications. After considering public testimony, as well as biological and economic data that were available at the Council's December 2010 meeting, NMFS is implementing the final 2011 and 2012 harvest specifications, as recommended by the Council. For 2011, the sum of the TAC amounts is 318,288 mt. For 2012, the sum of the TAC amounts is 335,078 mt.

Acceptable Biological Catch (ABC) and TAC Specifications

In December 2010, the Council, its Advisory Panel (AP), and its Scientific and Statistical Committee (SSC), reviewed current biological and harvest information about the condition of groundfish stocks in the GOA. This information was compiled by the Council's GOA Plan Team and was presented in the draft 2010 SAFE report for the GOA groundfish fisheries, dated November 2010 (see ADDRESSES). The SAFE report contains a review of the latest scientific analyses and estimates of each species' biomass and other biological parameters, as well as summaries of the available information on the GOA ecosystem and the economic condition of the groundfish fisheries off Alaska. From these data and analyses, the Plan Team estimates an overfishing level (OFL) and ABC for each species or species group. The 2010 SAFE report was made available for public review upon notification of the proposed harvest specifications.

In previous years the largest changes from the proposed to the final harvest specifications have been based on the most recent NMFS stock surveys, which provide updated estimates of stock biomass and spatial distribution, and changes to the models used for making stock assessments. NMFS scientists presented updated and new survey results, changes to assessment models, and accompanying stock estimates at the November Plan Team meeting, and the SSC reviewed this information at the December 2010 Council meeting. In November 2010, the Plan Team considered updated stock assessments for pollock, Pacific cod, sablefish, sharks, squids, sculpins, and octopuses that are included in the final 2010 SAFE report. For the other groundfish stocks without recent surveys or other new scientific information, the final 2010 SAFE report updates the final 2009 SAFE assessments to include any other available, recent information, such as 2010 catch information, which does not result in significant changes from the proposed 2011 and 2012 harvest specifications. Changes from the proposed to the final harvest specifications in 2011 for newly assessed groundfish stocks are discussed below. New stock surveys and assessments are scheduled for 2011 and will be considered at the Plan Team and Council meetings in 2011 for the 2012 and 2013 groundfish fisheries.

The final ABCs and TACs are based on the best available biological and socioeconomic information, including projected biomass trends, information on assumed distribution of stock biomass, and revised methods used to calculate stock biomass. The FMP specifies the formulas, or tiers, to be used to compute ABCs and OFLs. The formulas applicable to a particular stock or stock complex are determined by the level of reliable information available to fisheries scientists. This information is categorized into a successive series of six tiers to define OFL and ABC amounts, with tier one representing the highest level of information quality available and tier six representing the lowest level of information quality available.

The SSC adopted the final 2011 and 2012 OFLs and ABCs recommended by the Plan Team for all groundfish species, with the exception of sharks. The Plan Team's ABC recommendation for the shark species group was based on a 0.04 fishing mortality rate. However, the SSC preferred an ABC based on the tier 5 ABC calculation for spiny dogfish (where the ABC equals 75 percent of the OFL) and a tier 6 calculation for other sharks in the group. The Council adopted the SSC's OFL and ABC recommendations and the AP's TAC recommendations. The final TAC recommendations were based on the ABCs as adjusted for other biological and socioeconomic considerations, including maintaining the sum of all TACs within the required OY range of 116,000 to 800,000 mt.

The Council recommended TACs for 2011 and 2012 that are equal to ABCs for pollock, deep-water flatfish, rex sole, sablefish, Pacific ocean perch, shortraker rockfish, rougheye rockfish, northern rockfish, pelagic shelf rockfish, thornyhead rockfish, demersal shelf rockfish, big skate, longnose skate, other skates, squids, sharks, octopuses, and sculpins. The Council recommended TACs for 2011 and 2012 that are less than the ABCs for Pacific cod, flathead sole, shallow-water flatfish, arrowtooth flounder, other rockfish, and Atka mackerel. The Pacific cod TACs are set to accommodate the State of Alaska's (State's) guideline harvest levels (GHLs) for Pacific cod so that the ABC is not exceeded. The flathead sole, shallow-water flatfish, and arrowtooth flounder TACs are set to conserve the halibut PSC limit for use in other fisheries. The other rockfish TAC is set to reduce the amount of discards in the Southeast Outside (SEO) District. The Atka mackerel TAC is set to accommodate incidental catch amounts in other fisheries.

The 2011 and 2012 harvest specifications approved by the Secretary of Commerce (Secretary) are unchanged from those recommended by the Council and are consistent with the preferred harvest strategy alternative in the EIS (see ADDRESSES). NMFS finds that the Council's recommended OFLs, ABCs, and TACs are consistent with the biological condition of the groundfish stocks as described in the final 2010 SAFE report. NMFS also finds that the Council's recommendations for OFLs, ABCs, and TACs are consistent with the biological condition of groundfish stocks as adjusted for other biological and socioeconomic considerations, including maintaining the total TAC within the OY range. NMFS reviewed the Council's recommended TAC specifications and apportionments and approves these harvest specifications under 50 CFR 679.20(c)(3)(ii). The apportionment of TAC amounts among gear types, processing sectors, and seasons is discussed below.

Tables 1 and 2 list the final 2011 and 2012 OFLs, ABCs, TACs, and area apportionments of groundfish in the GOA. The sums of the 2011 and 2012 ABCs are 590,121 mt and 603,990 mt, respectively, which are higher in 2011 and 2012 than the 2010 ABC sum of 565,499 mt (75 FR 11749, March 12, 2010).

Specification and Apportionment of TAC Amounts

The ABC for the pollock stock in the combined Western, Central, and West Yakutat Regulatory Areas (W/C/WYK) has been adjusted to reflect the GHL established by the State for the Prince William Sound (PWS) pollock fishery since its inception in 1995. Genetic studies have led fisheries scientists to believe that the pollock in PWS is not a separate stock from the combined W/C/WYK population. Accordingly, the Council recommended decreasing the W/C/WYK pollock ABC to account for the State's PWS GHL. For 2011 and 2012, the PWS GHL for pollock is 1,650 mt.

The apportionment of annual pollock TAC among the Western and Central Regulatory Areas of the GOA reflects the seasonal biomass distribution and is discussed in greater detail below. The annual pollock TAC in the Western and Central Regulatory Areas of the GOA is apportioned among Statistical Areas 610, 620, and 630, as well as equally among each of the following four seasons: the A season (January 20 through March 10), the B season (March 10 through May 31), the C season (August 25 through October 1), and the D season (October 1 through November 1) (50 CFR 679.23(d)(2)(i) through (iv), and 679.20(a)(5)(iv)(A) through (B)).

As in 2010, the SSC and Council recommended that the method of apportioning the sablefish ABC among management areas in 2011 and 2012 include commercial fishery and survey data. NMFS stock assessment scientists believe the use of unbiased commercial fishery data reflecting catch-per-unit-effort provides rational input for stock distribution assessments. NMFS evaluates annually the use of commercial fishery data to ensure unbiased information is included in stock distribution models. The Council's recommendation for sablefish area apportionments also takes into account the prohibition on the use of trawl gear in the SEO District of the Eastern Regulatory Area and makes available five percent of the combined Eastern Regulatory Area ABCs to trawl gear for use as incidental catch in other directed groundfish fisheries in the WYK District (§ 679.20(a)(4)(i)).

The AP, SSC, and Council recommended apportionment of the ABC for Pacific cod in the GOA among regulatory areas based on the three most recent NMFS summer trawl surveys. The 2011 and 2012 Pacific cod TACs are affected by the State's fishery for Pacific cod in State waters in the Central and Western Regulatory Areas, as well as in PWS. The Plan Team, SSC, AP, and Council recommended that the sum of all State and Federal water Pacific cod removals from the GOA not exceed ABC recommendations. Accordingly, the Council recommended reducing the 2011 and 2012 Pacific cod TACs from the ABCs in the Eastern, Central and Western Regulatory Areas to account for State GHLs. Therefore, the 2011 Pacific cod TACs are less than the ABCs by the following amounts: (1) Eastern GOA, 651 mt; (2) Central GOA, 13,454 mt; and (3) Western GOA, 7,595 mt. The 2012 Pacific cod TACs are less than the ABCs by the following amounts: (1) Eastern GOA, 587 mt; (2) Central GOA, 12,121 mt; and (3) Western GOA, 6,842 mt. These amounts reflect the sum of the State's 2011 and 2012 GHLs in these areas, which are 25 percent of the Eastern, Central, and Western GOA ABCs, respectively. The percentage of the ABC used to calculate the 2011 and 2012 GHL for the State-managed Pacific cod fishery in PWS fisheries has been increased to 25 percent of the Eastern GOA ABC in 2011 and 2012, an increase from 15 percent in 2010.

NMFS establishes seasonal apportionments of the annual Pacific cod TAC in the Western and Central Regulatory Areas. Sixty percent of the annual TAC is apportioned to the A season for hook-and-line, pot, and jig gear from January 1 through June 10, and for trawl gear from January 20 through June 10. Forty percent of the annual TAC is apportioned to the B season for hook-and-line, pot, and jig gear from September 1 through December 31, and for trawl gear from September 1 through November 1 (§§ 679.23(d)(3) and 679.20(a)(12)).

For 2011 and 2012, NMFS establishes an A season directed fishing allowance (DFA) for the Pacific cod fisheries in the GOA based on the management area TACs minus the recent, average A season incidental catch of Pacific cod in each management area before June 10 (§ 679.20(d)(1)). The DFA and incidental catch before June 10 will be managed such that total harvest in the A season will be no more than 60 percent of the annual TAC. Incidental catch taken after June 10 will continue to accrue against the B season TAC. This action meets the intent of the Steller sea lion protection measures by achieving temporal dispersion of the Pacific cod removals and by reducing the likelihood of harvest exceeding 60 percent of the annual TAC in the A season.

Other Actions Affecting the 2011 and 2012 Harvest Specifications

NMFS published a final rule to implement Amendment 87 to the FMP on October 6, 2010 (75 FR 61639), effective November 5, 2010. Amendment 87 moved squids, sharks, octopuses, and sculpins from the “other species” category to the “target species” category in the GOA and eliminated the “other species” category in the GOA FMP. Amendment 87 revised the FMP to meet the National Standard 1 guidelines for annual catch limits and accountability measures and requires that OFLs, ABCs, and TACs be established for squids, sharks, octopuses, and sculpins as part of the annual groundfish harvest specifications process. Based on the 2010 final SAFE report, NMFS is establishing ABCs, TACs, and OFLs for squids, sharks, octopuses, and sculpins for 2011 and 2012 (see Tables 1 and 2).

In October 2008, the Council adopted Amendment 34 to the Fishery Management Plan for Bering Sea/Aleutian Islands King and Tanner Crabs. Amendment 34 would amend the Bering Sea and Aleutian Islands Crab Rationalization Program (Crab Rationalization Program) to exempt additional fishery participants from harvest limits, called sideboards, which apply to some vessels and license limitation program (LLP) licenses that are used to participate in GOA Pacific cod and pollock fisheries. These particular sideboards are discussed under the subsequent section titled “Non-AFA Crab Vessel Groundfish Harvest Limitations.” Tables 17 and 18 specify the 2011 and 2012 sideboard amounts. If the Secretary approves Amendment 34, NMFS would revise the sideboard amounts specified in Tables 17 and 18. Pending completion of applicable rulemaking, these revisions could be effective as soon as the latter half of 2011.

Changes From the Proposed 2011 and 2012 Harvest Specifications in the GOA

In October 2010, the Council's recommendations for the proposed 2011 and 2012 harvest specifications (75 FR 76352, December 8, 2010) were based largely upon information contained in the final 2009 SAFE report for the GOA groundfish fisheries, dated November 2009 (see ADDRESSES). The Council proposed that the OFLs, ABCs, and TACs established for the 2011 groundfish fisheries (75 FR 11749, March 12, 2010) be rolled over to 2011 and 2012, pending completion and review of the 2010 SAFE report at its December 2010 meeting.

As described previously, the SSC adopted the final 2011 and 2012 OFLs and ABCs recommended by the Plan Team, with the exception of sharks. The Council adopted the SSC's OFL and ABC recommendations and the AP's TAC recommendations for 2011 and 2012. The final 2011 ABCs are higher than the 2011 ABCs published in the proposed 2011 and 2012 harvest specifications (75 FR 76352, December 8, 2010) for sablefish, arrowtooth flounder, northern rockfish, other rockfish, pelagic shelf rockfish, demersal shelf rockfish, squids, sharks, octopuses, and sculpins. Separate ABCs for squid, sharks, octopuses, and sculpins are being established for the first time in 2011 and 2012. These four species were formerly grouped under the “other species” category, with an aggregate OFL, ABC, and TAC. The final 2011 ABCs are lower than the proposed 2011 ABCs for pollock, Pacific cod, deepwater flatfish, rex sole, flathead sole, and rougheye rockfish. The final 2012 ABCs are higher than the proposed 2012 ABCs for pollock, sablefish, deepwater flatfish, flathead sole, other rockfish, demersal shelf rockfish, squids, sharks, octopuses, and sculpins. In contrast, the final 2012 ABCs are lower than the proposed 2012 ABCs for Pacific cod, rex sole, arrowtooth flounder, Pacific ocean perch, northern rockfish, pelagic shelf rockfish, and rougheye rockfish. For the remaining target species, the Council recommended, and the Secretary approved, final 2011 and 2012 ABC levels that are the same as the proposed 2011 and 2012 ABC levels.

Additional information explaining the changes between the proposed and final ABCs is included in the final 2010 SAFE report, which was not available when the Council made its proposed ABC and TAC recommendations in October 2010. At that time, the most recent stock assessment information was contained in the final 2009 SAFE report. The final 2010 SAFE report contains the best and most recent scientific information on the condition of the groundfish stocks, as previously discussed in this preamble. This document currently is available from the Council (see ADDRESSES). The Council considered the final 2010 SAFE report in December 2010 when it made recommendations for the final 2011 and 2012 harvest specifications, including recommendations for 2011 and 2012 TAC limits. The Council's final 2011 and 2012 TAC recommendations increase fishing opportunities for species for which the Council had sufficient information to raise TAC levels. Conversely, the Council reduced TAC levels to provide greater protection for some species. In the GOA, the total final 2011 TAC amount is 318,288 mt, a decrease of four percent from the total proposed 2011 TAC limit of 330,746 mt. The total final 2012 TAC amount is 335,078 mt, an increase of one percent from the total proposed 2011 TAC limit of 330,746 mt. For the species and species groups for which a new assessment was prepared, the greatest TAC increases were for sablefish, sharks, octopuses, and sculpins, while the greatest decreases were for pollock and Pacific cod. These TAC changes corresponded to associated changes in the ABC levels, as recommended by the SSC.

The largest 2011 decreases in TAC occurred for pollock and Pacific cod. Pollock decreased from the proposed limit 109,105 mt to the final limit of 96,215 mt (12 percent decrease). While the 2010 SAFE report indicates an increase in spawning biomass, the current spawning biomass level places this stock in Tier 3b. Accordingly, ABC was calculated as required by the FMP for Tier 3b stocks, and TAC was set equal to ABC. Although the final TAC for pollock is reduced from the proposed level by 12 percent, this limit is still an increase over the final 2010 pollock TAC. Pacific cod decreased from 73,426 mt to 65,100 mt (11 percent decrease) in light of a new assessment model that projects a slight decline of Pacific cod biomass in coming years (rather than a slight increase as projected in 2009) and a decrease in the biomass estimates for recent year (2006-2009) classes.

The basis for the increased TACs for sablefish, sharks, octopuses, and sculpins varied. Sablefish increased from 9,300 mt to 11,290 mt (21 percent increase) due to an increased biomass estimate from the 2010 sablefish hook-and-line survey. Sharks increased from 957 mt to 6,197 mt (548 percent increase) due to the SSC's modification of the Plan Team's recommendations for calculating shark ABC. The SSC recommended estimating the spiny dogfish ABC on a tier 5 approach, using the best available estimates for biomass and natural mortality rates for this species. For all other shark species, the SSC recommended using tier 6, which is based on recent average catch information. In combination, these recommendations led to the increased ABC for the shark complex. Octopuses increased from 224 mt to 954 mt (326 percent increase) due to the adoption of a biomass-based estimate placing octopuses in tier 5, rather than tier 6. Tier 6 management is based on the use of average historic catch data, which the Plan Team and SSC agreed was not an appropriate method to use for setting the OFL for octopuses. Instead, the octopus OFL was set using a modified tier 5 approach, using the average of the three most recent GOA trawl survey estimates of biomass as a minimum estimate, and applying a conservative natural mortality rate to that estimate to establish the OFL. Sculpins increased from 4,746 mt to 5,496 mt (16 percent increase) due to revised estimates of natural mortality.

The SSC recommended, and the Council concurred, that sharks and octopuses be placed on bycatch status. This eliminates the possibility that these species could be subject to directed fishing, and minimizes the potential catch of the species in these categories. The SSC believed that the stock assessment models for these species groups should be improved before considering allowing any directed fishing to occur. As such, NMFS is placing sharks and octopuses on bycatch status for the entire year.

Detailed information providing the basis for the changes described above is contained in the final 2010 SAFE report. The other TAC increases or decreases in the final 2011 harvest specifications are within 2 percent of the proposed 2011 harvest specifications. The final TACs are based on the most recent scientific information available. These TACs are specified in compliance with the harvest strategy described in both the proposed and final rules for the 2011 and 2012 harvest specifications. The changes in TAC limits between the proposed and this final rule are compared in the following table.

Comparison of Proposed and Final 2011 and 2012 GOA TACs
[Values are rounded to the nearest metric ton]
Species | 2011 final TAC | 2011 proposed TAC | 2011 difference from proposed | 2012 final TAC | 2012 proposed TAC | 2012 difference from proposed
Pollock | 96,215 | 109,105 | −12,890 | 121,649 | 109,105 | 12,544
Pacific cod | 65,100 | 73,426 | −8,326 | 58,650 | 73,426 | −14,776
Sablefish | 11,290 | 9,300 | 1,990 | 10,345 | 9,300 | 1,045
Shallow-water flatfish | 20,062 | 20,062 | 0 | 20,062 | 20,062 | 0
Deep-water flatfish | 6,305 | 6,325 | −20 | 6,486 | 6,325 | 161
Rex sole | 9,565 | 9,592 | −27 | 9,396 | 9,592 | −196
Arrowtooth flounder | 43,000 | 43,000 | 0 | 43,000 | 43,000 | 0
Flathead sole | 10,587 | 10,576 | 11 | 10,693 | 10,576 | 117
Pacific ocean perch | 16,997 | 16,993 | 4 | 16,187 | 16,993 | −806
Northern rockfish | 4,854 | 4,808 | 46 | 4,614 | 4,808 | −194
Shortraker rockfish | 914 | 914 | 0 | 914 | 914 | 0
Other rockfish | 1,195 | 1,192 | 3 | 1,914 | 1,192 | 2
Pelagic shelf rockfish | 4,754 | 4,727 | 27 | 4,438 | 4,727 | −289
Rougheye rockfish | 1,312 | 1,313 | −1 | 1,312 | 1,313 | −1
Demersal shelf rockfish | 300 | 295 | 5 | 300 | 295 | 5
Thornyhead rockfish | 1,770 | 1,770 | 0 | 1,770 | 1,770 | 0
Atka mackerel | 2,000 | 2,000 | 0 | 2,000 | 2,000 | 0
Big skate | 3,328 | 3,328 | 0 | 3,328 | 3,328 | 0
Longnose skates | 2,852 | 2,852 | 0 | 2,852 | 2,852 | 0
Other skates | 2,093 | 2,093 | 0 | 2,093 | 2,093 | 0
Squids | 1,148 | 1,148 | 0 | 1,148 | 1,148 | 0
Sharks | 6,197 | 957 | 5,240 | 6,197 | 957 | 5,240
Octopuses | 954 | 224 | 224 | 954 | 224 | 730
Sculpins | 5,496 | 4,746 | 750 | 5,496 | 4,746 | 750
Total | 318,288 | 330,746 | −12,458 | 335,078 | 330,746 | 4,332

The final 2011 and 2012 TAC recommendations for the GOA are within the OY range established for the GOA and do not exceed the ABC for any single species or complex. Tables 1 and 2 list the 2011 and 2012, respectively, final OFL, ABC, and TAC amounts for GOA groundfish.

Table 1—Final 2011 ABCs, TACs, and OFLs of Groundfish for the Western/Central/West Yakutat (W/C/WYK), Western (W), Central (C), Eastern (E) Regulatory Areas, and in the West Yakutat (WYK), Southeast Outside (SEO), and Gulfwide (GW) Districts of the Gulf of Alaska
[Values are rounded to the nearest metric ton]
Species | Area ¹ | OFL | ABC | TAC
Pollock ² | Shumagin (610) | n/a | 27,031 | 27,031
| Chirikof (620) | n/a | 37,365 | 37,365
| Kodiak (630) | n/a | 20,235 | 20,235
| WYK (640) | n/a | 2,339 | 2,339
| W/C/WYK (subtotal) | 118,030 | 86,970 | 86,970
| SEO (650) | 12,326 | 9,245 | 9,245
| Total | 130,356 | 96,215 | 96,215
Pacific cod ³ | W | n/a | 30,380 | 22,785
| C | n/a | 53,816 | 40,362
| E | n/a | 2,604 | 1,953
| Total | 102,600 | 86,800 | 65,100
Sablefish ⁴ | W | n/a | 1,620 | 1,620
| C | n/a | 4,740 | 4,740
| WYK | n/a | 1,990 | 1,990
| SEO | n/a | 2,940 | 2,940
| E (WYK and SEO) (subtotal) | n/a | 4,930 | 4,930
| Total | 13,340 | 11,290 | 11,290
Shallow-water flatfish ⁶ | W | n/a | 23,681 | 4,500
| C | n/a | 29,999 | 13,000
| WYK | n/a | 1,228 | 1,228
| SEO | n/a | 1,334 | 1,334
| Total | 67,768 | 56,242 | 20,062
Deep-water flatfish ⁵ | W | n/a | 529 | 529
| C | n/a | 2,919 | 2,919
| WYK | n/a | 2,083 | 2,083
| SEO | n/a | 774 | 774
| Total | 7,823 | 6,305 | 6,305
Rex sole | W | n/a | 1,517 | 1,517
| C | n/a | 6,294 | 6,294
| WYK | n/a | 868 | 868
| SEO | n/a | 886 | 886
| Total | 12,499 | 9,565 | 9,565
Arrowtooth flounder | W | n/a | 34,317 | 8,000
| C | n/a | 144,559 | 30,000
| WYK | n/a | 22,551 | 2,500
| SEO | n/a | 11,723 | 2,500
| Total | 251,068 | 213,150 | 43,000
Flathead sole | W | n/a | 17,442 | 2,000
| C | n/a | 28,104 | 5,000
| WYK | n/a | 2,064 | 2,064
| SEO | n/a | 1,523 | 1,523
| Total | 61,412 | 49,133 | 10,587
Pacific ocean perch ⁷ | W | 3,221 | 2,798 | 2,798
| C | 11,948 | 10,379 | 10,379
| WYK | n/a | 1,937 | 1,937
| SEO | n/a | 1,883 | 1,883
| E (WYK and SEO) (subtotal) | 4,397 | 3,820 | 3,820
| Total | 19,566 | 16,997 | 16,997
Northern rockfish 8, 9 | W | n/a | 2,573 | 2,573
| C | n/a | 2,281 | 2,281
| E | n/a | 0 | 0
| Total | 5,784 | 4,854 | 4,854
Shortraker rockfish ¹¹ | W | n/a | 134 | 134
| C | n/a | 325 | 325
| E | n/a | 455 | 455
| Total | 1,219 | 914 | 914
Other rockfish 9, 12 | W | n/a | 212 | 212
| C | n/a | 507 | 507
| WYK | n/a | 276 | 276
| SEO | n/a | 2,757 | 200
| Total | 4,881 | 3,752 | 1,195
Pelagic shelf rockfish ¹³ | W | n/a | 611 | 611
| C | n/a | 3,052 | 3,052
| WYK | n/a | 407 | 407
| SEO | n/a | 684 | 684
| Total | 5,570 | 4,754 | 4,754
Rougheye and Blackspotted rockfish ¹⁰ | W | n/a | 81 | 81
| C | n/a | 868 | 868
| E | n/a | 363 | 363
| Total | 1,579 | 1,312 | 1,312
Demersal shelf rockfish ¹⁴ | SEO | 479 | 300 | 300
Thornyhead rockfish | W | n/a | 425 | 425
| C | n/a | 637 | 637
| E | n/a | 708 | 708
| Total | 2,360 | 1,770 | 1,770
Atka mackerel | GW | 6,200 | 4,700 | 2,000
Big skate ¹⁵ | W | n/a | 598 | 598
| C | n/a | 2,049 | 2,049
| E | n/a | 681 | 681
| Total | 4,438 | 3,328 | 3,328
Longnose skate ¹⁶ | W | n/a | 81 | 81
| C | n/a | 2,009 | 2,009
| E | n/a | 762 | 762
| Total | 3,803 | 2,852 | 2,852
Other skates ¹⁷ | GW | 2,791 | 2,093 | 2,093
Squids | GW | 1,530 | 1,148 | 1,148
Sharks | GW | 8,263 | 6,197 | 6,197
Octopuses | GW | 1,273 | 954 | 954
Sculpins | GW | 7,328 | 5,496 | 5,496
Total |  | 723,928 | 590,121 | 318,288
¹ Regulatory areas and districts are defined at § 679.2. (W=Western Gulf of Alaska; C=Central Gulf of Alaska; E=Eastern Gulf of Alaska; WYK=West Yakutat District; SEO=Southeast Outside District; GW=Gulf-wide).
² Pollock is apportioned in the Western/Central Regulatory Areas among three statistical areas. Table 5 lists the final 2011 seasonal apportionments. In the West Yakutat and Southeast Outside Districts of the Eastern Regulatory Area, pollock is not divided into seasonal allowances.
³ The annual Pacific cod TAC is apportioned 60% to the A season and 40% to the B season in the Western and Central Regulatory Areas of the GOA. Pacific cod is allocated 90% for processing by the inshore component and 10% for processing by the offshore component. Table 7 lists the final 2011 Pacific cod seasonal apportionments.
⁴ Sablefish is allocated to trawl and hook-and-line gears for 2011. Table 3 lists the final 2011 sablefish TACs.
⁵ “Deep-water flatfish” means Dover sole, Greenland turbot, Kamchatka flounder, and deepsea sole.
⁶ “Shallow-water flatfish” means flatfish not including “deep-water flatfish,” flathead sole, rex sole, or arrowtooth flounder.
⁷ “Pacific ocean perch” means Sebastes alutus.
⁸ “Northern rockfish” means Sebastes polyspinous. For management purposes the 3 mt apportionment of ABC to the WYK District of the Eastern Gulf of Alaska has been included in the slope rockfish species group.
⁹ “Slope rockfish” means Sebastes aurora (aurora), S. melanostomus (blackgill), S. paucispinis (bocaccio), S. goodei (chilipepper), S. crameri (darkblotch), S. elongatus (greenstriped), S. variegatus (harlequin), S. wilsoni (pygmy), S. babcocki (redbanded), S. proriger (redstripe), S. zacentrus (sharpchin), S. jordani (shortbelly), S. brevispinis (silvergrey), S. diploproa (splitnose), S. saxicola (stripetail), S. miniatus (vermilion), and S. reedi (yellowmouth). In the Eastern GOA only, slope rockfish also includes northern rockfish, S. polyspinous.
¹⁰ “Rougheye rockfish” means Sebastes aleutianus (rougheye) and Sebastes melanostictus (blackspotted).
¹¹ “Shortraker rockfish” means Sebastes borealis.
¹² “Other rockfish” in the Western and Central Regulatory Areas and in the West Yakutat District means slope rockfish and demersal shelf rockfish. The “other rockfish” species group in the SEO District means slope rockfish.
¹³ “Pelagic shelf rockfish” means, S. variabilis (dusky), S. entomelas (widow), and S. flavidus (yellowtail).
¹⁴ “Demersal shelf rockfish” means Sebastes pinniger (canary), S. nebulosus (china), S. caurinus (copper), S. maliger (quillback), S. helvomaculatus (rosethorn), S. nigrocinctus (tiger), and S. ruberrimus (yelloweye).
¹⁵ “Big skate” means Raja binoculata.
¹⁶ “Longnose skate” means Raja rhina.
¹⁷ “Other skates” means Bathyraja spp.

Table 2—Final 2012 ABCs, TACs, and OFLs of Groundfish for the Western/Central/West Yakutat (W/C/WYK), Western (W), Central (C), Eastern (E) Regulatory Areas, and in the West Yakutat (WYK), Southeast Outside (SEO), and Gulfwide (GW) Districts of the Gulf of Alaska
[Values are rounded to the nearest metric ton]
Species | Area ¹ | OFL | ABC | TAC
Pollock ² | Shumagin (610) | n/a | 34,932 | 34,932
| Chirikof (620) | n/a | 48,293 | 48,293
| Kodiak (630) | n/a | 26,155 | 26,155
| WYK (640) | n/a | 3,024 | 3,024
| W/C/WYK (subtotal) | 151,030 | 112,404 | 112,404
| SEO (650) | 12,326 | 9,245 | 9,245
| Total | 163,356 | 121,649 | 121,649
Pacific cod ³ | W | n/a | 27,370 | 20,528
| C | n/a | 48,484 | 36,362
| E | n/a | 2,346 | 1,760
| Total | 92,300 | 78,200 | 58,650
Sablefish ⁴ | W | n/a | 1,484 | 1,484
| C | n/a | 4,343 | 4,343
| WYK | n/a | 1,818 | 1,818
| SEO | n/a | 2,700 | 2,700
| E (WYK and SEO) (subtotal) | n/a | 4,518 | 4,518
| Total | 12,232 | 10,345 | 10,345
Shallow-water flatfish ⁶ | W | n/a | 23,681 | 4,500
| C | n/a | 29,999 | 13,000
| WYK | n/a | 1,228 | 1,228
| SEO | n/a | 1,334 | 1,334
| Total | 67,768 | 56,242 | 20,062
Deep-water flatfish ⁵ | W | n/a | 541 | 541
| C | n/a | 3,004 | 3,004
| WYK | n/a | 2,144 | 2,144
| SEO | n/a | 797 | 797
| Total | 8,046 | 6,486 | 6,486
Rex sole | W | n/a | 1,490 | 1,490
| C | n/a | 6,184 | 6,184
| WYK | n/a | 853 | 853
| SEO | n/a | 889 | 889
| Total | 12,279 | 9,396 | 9,396
Arrowtooth flounder | W | n/a | 33,975 | 8,000
| C | n/a | 143,119 | 30,000
| WYK | n/a | 22,327 | 2,500
| SEO | n/a | 11,606 | 2,500
| Total | 248,576 | 211,027 | 43,000
Flathead sole | W | n/a | 17,960 | 2,000
| C | n/a | 28,938 | 5,000
| WYK | n/a | 2,125 | 2,125
| SEO | n/a | 1,568 | 1,568
| Total | 63,202 | 50,591 | 10,693
Pacific ocean perch ⁷ | W | 3,068 | 2,665 | 2,665
| C | 11,379 | 9,884 | 9,884
| WYK | n/a | 1,845 | 1,845
| SEO | n/a | 1,793 | 1,793
| E (WYK and SEO) (subtotal) | 4,188 | 3,638 | 3,638
| Total | 18,635 | 16,187 | 16,187
Northern rockfish 8, 9 | W | n/a | 2,446 | 2,446
| C | n/a | 2,168 | 2,168
| E | n/a | 0 | 0
| Total | 5,498 | 4,614 | 4,614
Shortraker rockfish ¹¹ | W | n/a | 134 | 134
| C | n/a | 325 | 325
| E | n/a | 455 | 455
| Total | 1,219 | 914 | 914
Other rockfish 9, 12 | W | n/a | 212 | 212
| C | n/a | 507 | 507
| WYK | n/a | 275 | 275
| SEO | n/a | 2,757 | 200
| Total | 4,881 | 3,751 | 1,194
Pelagic shelf rockfish ¹³ | W | n/a | 570 | 570
| C | n/a | 2,850 | 2,850
| WYK | n/a | 380 | 380
| SEO | n/a | 638 | 638
| Total | 5,387 | 4,438 | 4,438
Rougheye and Blackspotted rockfish ¹⁰ | W | n/a | 81 | 81
| C | n/a | 868 | 868
| E | n/a | 363 | 363
| Total | 1,579 | 1,312 | 1,312
Demersal shelf rockfish ¹⁴ | SEO | 479 | 300 | 300
Thornyhead rockfish | W | n/a | 425 | 425
| C | n/a | 637 | 637
| E | n/a | 708 | 708
| Total | 2,360 | 1,770 | 1,770
Atka mackerel | GW | 6,200 | 4,700 | 2,000
Big skate ¹⁵ | W | n/a | 598 | 598
| C | n/a | 2,049 | 2,049
| E | n/a | 681 | 681
| Total | 4,438 | 3,328 | 3,328
Longnose skate ¹⁶ | W | n/a | 81 | 81
| C | n/a | 2,009 | 2,009
| E | n/a | 762 | 762
| Total | 3,803 | 2,852 | 2,852
Other skates ¹⁷ | GW | 2,791 | 2,093 | 2,093
Squids | GW | 1,530 | 1,148 | 1,148
Sharks | GW | 8,263 | 6,197 | 6,197
Octopuses | GW | 1,272 | 954 | 954
Sculpins | GW | 7,328 | 5,496 | 5,496
Total |  | 743,421 | 603,990 | 335,078
¹ Regulatory areas and districts are defined at § 679.2. (W=Western Gulf of Alaska; C=Central Gulf of Alaska; E=Eastern Gulf of Alaska; WYK=West Yakutat District; SEO=Southeast Outside District; GW=Gulf-wide).
² Pollock is apportioned in the Western/Central Regulatory Areas among three statistical areas. Table 6 lists the final 2012 seasonal apportionments. In the West Yakutat and Southeast Outside Districts of the Eastern Regulatory Area, pollock is not divided into seasonal allowances.
³ The annual Pacific cod TAC is apportioned 60% to the A season and 40% to the B season in the Western and Central Regulatory Areas of the GOA. Pacific cod is allocated 90% for processing by the inshore component and 10% for processing by the offshore component. Table 8 lists the final 2012 Pacific cod seasonal apportionments.
⁴ Sablefish is allocated to trawl gear only for 2012. Table 3 lists the final 2012 trawl allocation of sablefish TACs.
⁵ “Deep-water flatfish” means Dover sole, Greenland turbot, Kamchatka flounder, and deepsea sole.
⁶ “Shallow-water flatfish” means flatfish not including “deep-water flatfish,” flathead sole, rex sole, or arrowtooth flounder.
⁷ “Pacific ocean perch” means Sebastes alutus.
⁸ “Northern rockfish” means Sebastes polyspinous. For management purposes the 2 mt apportionment of ABC to the WYK District of the Eastern Gulf of Alaska has been included in the slope rockfish species group.
⁹ “Slope rockfish” means Sebastes aurora (aurora), S. melanostomus (blackgill), S. paucispinis (bocaccio), S. goodei (chilipepper), S. crameri (darkblotch), S. elongatus (greenstriped), S. variegatus (harlequin), S. wilsoni (pygmy), S. babcocki (redbanded), S. proriger (redstripe), S. zacentrus (sharpchin), S. jordani (shortbelly), S. brevispinis (silvergrey), S. diploproa (splitnose), S. saxicola (stripetail), S. miniatus (vermilion), and S. reedi (yellowmouth). In the Eastern GOA only, slope rockfish also includes northern rockfish, S. polyspinous.
¹⁰ “Rougheye rockfish” means Sebastes aleutianus (rougheye) and Sebastes melanostictus (blackspotted).
¹¹ “Shortraker rockfish” means Sebastes borealis.
¹² “Other rockfish” in the Western and Central Regulatory Areas and in the West Yakutat District means slope rockfish and demersal shelf rockfish. The “other rockfish” species group in the SEO District means slope rockfish.
¹³ “Pelagic shelf rockfish” means, S. variabilis (dusky), S. entomelas (widow), and S. flavidus (yellowtail).
¹⁴ “Demersal shelf rockfish” means Sebastes pinniger (canary), S. nebulosus (china), S. caurinus (copper), S. maliger (quillback), S. helvomaculatus (rosethorn), S. nigrocinctus (tiger), and S. ruberrimus (yelloweye).
¹⁵ “Big skate” means Raja binoculata.
¹⁶ “Longnose skate” means Raja rhina.
¹⁷ “Other skates” means Bathyraja spp.

Apportionment of Reserves

Section 679.20(b)(2) requires NMFS to set aside 20 percent of each TAC for pollock, Pacific cod, flatfish, squids, sharks, octopuses, and sculpins in reserves for possible apportionment at a later date during the fishing year. In 2010, NMFS reapportioned all the reserves in the final harvest specifications. For 2011 and 2012, NMFS proposed reapportionment of all the reserves in the proposed 2011 and 2012 harvest specifications published in the Federal Register on December 8, 2010 (75 FR 76352). NMFS did not receive any public comments on the proposed reapportionments. For the final 2011 and 2012 harvest specifications, NMFS reapportioned, as proposed, all the reserves for pollock, Pacific cod, flatfish, squids, sharks, octopuses, and sculpins. Specifications of TAC shown in Tables 1 and 2 reflect reapportionment of reserve amounts for these species and species groups.

Allocations of the Sablefish TAC Amounts to Vessels Using Hook-and-Line and Trawl Gear

Section 679.20(a)(4)(i) and (ii) require allocations of sablefish TACs for each of the regulatory areas and districts to hook-and-line and trawl gear. In the Western and Central Regulatory Areas, 80 percent of each TAC is allocated to hook-and-line gear, and 20 percent of each TAC is allocated to trawl gear. In the Eastern Regulatory Area, 95 percent of the TAC is allocated to hook-and-line gear, and five percent is allocated to trawl gear. The trawl gear allocation in the Eastern Regulatory Area may only be used to support incidental catch of sablefish in directed fisheries for other target species (§ 679.20(a)(4)(i)). In recognition of the trawl ban in the SEO District of the Eastern Regulatory Area, the Council recommended allocating five percent of the combined Eastern Regulatory Area sablefish TAC to trawl gear in the WYK District and making the remainder of the WYK sablefish TAC available to vessels using hook-and-line gear. NMFS concurs with the Council's recommendation, and, as a result, allocates 100 percent of the sablefish TAC in the SEO District to vessels using hook-and-line gear. This recommendation results in an allocation of 247 mt to trawl gear and 1,744 mt to hook-and-line gear in the WYK District in 2011, an allocation of 2,940 mt to hook-and-line gear in the SEO District in 2011, and 226 mt to trawl gear in the WYK District in 2012. Table 3 lists the allocations of the 2011 sablefish TACs to hook-and-line and trawl gear. Table 4 lists the allocations of the 2012 sablefish TACs to trawl gear.

The Council recommended that the hook-and-line sablefish TAC be established annually to ensure that this Individual Fishery Quota (IFQ) fishery is conducted concurrent with the halibut IFQ fishery and is based on the most recent sablefish survey information. The Council also recommended that only a trawl sablefish TAC be established for two years so that retention of incidental catch of sablefish by trawl gear could commence in January in the second year of the groundfish harvest specifications. However, since there is an annual assessment for sablefish and the final harvest specifications are expected to be published before the IFQ season begins (typically, early March), the Council recommended that the hook-and-line sablefish TAC be set on an annual basis, rather than for two years, so that the best and most recent scientific information could be considered in establishing the sablefish ABCs and TACs. Since sablefish is on bycatch status for trawl gear during the entire fishing year, and given that fishing for groundfish is prohibited prior to January 20, it is not likely that the trawl allocation of sablefish would be reached before the effective date of the final harvest specifications.

Table 3—Final 2011 Sablefish TAC Specifications in the GOA and Allocations to Hook-and-Line and Trawl Gear
[Values are rounded to the nearest metric ton]
Area/district | TAC | Hook-and-line allocation | Trawl allocation
Western | 1,620 | 1,296 | 324
Central | 4,740 | 3,792 | 948
West Yakutat ¹ | 1,990 | 1,744 | 247
Southeast Outside | 2,940 | 2,940 | 0
Total | 11,290 | 9,772 | 1,519
¹ The trawl allocation is based on allocating five percent of the combined Eastern Regulatory Area (West Yakutat and Southeast Outside combined) sablefish TAC to trawl gear in the West Yakutat District.

Table 4—Final 2012 Sablefish TAC Specifications in the GOA and Allocation to Trawl Gear ¹
[Values are rounded to the nearest metric ton]
Area/district | TAC | Hook-and-line allocation | Trawl allocation
Western | 1,484 | n/a | 297
Central | 4,343 | n/a | 869
West Yakutat ² | 1,818 | n/a | 226
Southeast Outside | 2,700 | n/a | 0
Total | 10,345 | n/a | 1,391
¹ The Council recommended that harvest specifications for the hook-and-line gear sablefish Individual Fishing Quota fisheries be limited to one year.
² The trawl allocation is based on allocating five percent of the combined Eastern Regulatory Area (West Yakutat and Southeast Outside combined) sablefish TAC to trawl gear in the West Yakutat District.

Apportionments of Pollock TAC Among Seasons and Regulatory Areas, and Allocations for Processing by Inshore and Offshore Components

In the GOA, pollock is apportioned by season and area, and is further allocated for processing by inshore and offshore components. Pursuant to § 679.20(a)(5)(iv)(B), the annual pollock TAC specified for the Western and Central Regulatory Areas of the GOA is apportioned into four equal seasonal allowances of 25 percent. As established by § 679.23(d)(2)(i) through (iv), the A, B, C, and D season allowances are available from January 20 to March 10, March 10 to May 31, August 25 to October 1, and October 1 to November 1, respectively.

Pollock TACs in the Western and Central Regulatory Areas of the GOA are apportioned among Statistical Areas 610, 620, and 630, pursuant to § 679.20(a)(5)(iv)(A). In the A and B seasons, the apportionments are in proportion to the distribution of pollock biomass based on the four most recent NMFS winter surveys. In the C and D seasons, the apportionments are in proportion to the distribution of pollock biomass based on the four most recent NMFS summer surveys. For 2011 and 2012, the Council recommends, and NMFS approves, averaging the winter and summer distribution of pollock in the Central Regulatory Area for the A season. The average is intended to reflect the distribution of pollock and the performance of the fishery in the area during the A season for the 2011 and 2012 fishing years. During the A season, the apportionment is based on an adjusted estimate of the relative distribution of pollock biomass of approximately 23 percent, 56 percent, and 21 percent in Statistical Areas 610, 620, and 630, respectively. During the B season, the apportionment is based on the relative distribution of pollock biomass at 23 percent, 67 percent, and 10 percent in Statistical Areas 610, 620, and 630, respectively. During the C and D seasons, the apportionment is based on the relative distribution of pollock biomass at 41 percent, 27 percent, and 32 percent in Statistical Areas 610, 620, and 630, respectively. Within any fishing year, the amount by which a seasonal allowance is underharvested or overharvested may be added to, or subtracted from, subsequent seasonal allowances in a manner to be determined by the Regional Administrator (§ 679.20(a)(5)(iv)(B)). The rollover amount is limited to 20 percent of the unharvested seasonal apportionment for the statistical area. Any unharvested pollock above the 20 percent limit could be further distributed to the other statistical areas, in proportion to the estimated biomass in the subsequent season in those statistical areas (§ 679.20(a)(5)(iv)(B)). The pollock TACs in the WYK and SEO District of 2,339 mt and 9,245 mt, respectively, in 2011, and 3,024 mt and 9,245 mt, respectively, in 2012, are not allocated by season.

Section 679.20(a)(6)(i) requires the allocation of 100 percent of the pollock TAC in all regulatory areas and all seasonal allowances to vessels catching pollock for processing by the inshore component after subtraction of amounts projected by the Regional Administrator to be caught by, or delivered to, the offshore component incidental to directed fishing for other groundfish species. Thus, the amount of pollock available for harvest by vessels harvesting pollock for processing by the offshore component is that amount that will be taken as incidental catch during directed fishing for groundfish species other than pollock, up to the maximum retainable amounts allowed by § 679.20(e) and (f). At this time, these incidental catch amounts of pollock are unknown and will be determined during the fishing year during the course of fishing activities by the offshore component.

Tables 5 and 6 list the seasonal biomass distribution of pollock in the Western and Central Regulatory Areas, area apportionments, and seasonal allowances. The amounts of pollock for processing by the inshore and offshore components are not shown.

Table 5—Final 2011 Distribution of Pollock in the Central and Western Regulatory Areas of the GOA; Seasonal Biomass Distribution, Area Apportionments; and Seasonal Allowances of Annual TAC
[Values are rounded to the nearest metric ton]
Season ¹ | Shumagin |  | Chirikof |  | Kodiak |  | Total ²
| (Area 610) |  | (Area 620) |  | (Area 630)
A (Jan 20-Mar 10) | 4,787 | (22.62%) | 11,896 | (56.22%) | 4,475 | (21.15%) | 21,159
B (Mar 10-May 31) | 4,787 | (22.62%) | 14,232 | (67.26%) | 2,139 | (10.11%) | 21,158
C (Aug 25-Oct 1) | 8,729 | (41.25%) | 5,618 | (26.55%) | 6,811 | (32.19%) | 21,158
D (Oct 1-Nov 1) | 8,729 | (41.25%) | 5,618 | (26.55%) | 6,811 | (32.19%) | 21,158
Annual Total ³ | 27,031 |  | 37,365 |  | 20,235 |  | 84,631
¹ As established by § 679.23(d)(2)(i) through (iv), the A, B, C, and D season allowances are available from January 20 to March 10, March 10 to May 31, August 25 to October 1, and October 1 to November 1, respectively. The amounts of pollock for processing by the inshore and offshore components are not shown in this table.
² The WYK and SEO District pollock TACs are not allocated by season and are not included in the total pollock TACs shown in this table.
³ Seasonal apportionments may not total precisely due to rounding.

Table 6—Final 2012 Distribution of Pollock in the Central and Western Regulatory Areas of the GOA; Seasonal Biomass Distribution, Area Apportionments; and Seasonal Allowances of Annual TAC
[Values are rounded to the nearest metric ton]
Season ¹ | Shumagin |  | Chirikof |  | Kodiak |  | Total ²
| (Area 610) |  | (Area 620) |  | (Area 630)
A (Jan 20-Mar 10) | 6,186 | (22.62%) | 15,374 | (56.22%) | 5,783 | (21.15%) | 27,345
B (Mar 10-May 31) | 6,185 | (22.62%) | 18,393 | (67.26%) | 2,765 | (10.11%) | 27,345
C (Aug 25-Oct 1) | 11,280 | (41.25%) | 7,262 | (26.55%) | 8,803 | (32.19%) | 27,345
D (Oct 1-Nov 1) | 11,280 | (41.25%) | 7,262 | (26.55%) | 8,803 | (32.19%) | 27,345
Annual Total ³ | 34,932 |  | 48,293 |  | 26,155 |  | 109,380
¹ As established by § 679.23(d)(2)(i) through (iv), the A, B, C, and D season allowances are available from January 20 to March 10, March 10 to May 31, August 25 to October 1, and October 1 to November 1, respectively. The amounts of pollock for processing by the inshore and offshore components are not shown in this table.
² The WYK and SEO District pollock TACs are not allocated by season and are not included in the total pollock TACs shown in this table.
³ Seasonal apportionments may not total precisely due to rounding.

Seasonal Apportionments of Pacific Cod TAC and Allocations for Processing of Pacific Cod TAC Between Inshore and Offshore Components

Pacific cod fishing is divided into two seasons in the Western and Central Regulatory Areas of the GOA. For hook-and-line, pot, and jig gear, the A season is January 1 through June 10, and the B season is September 1 through December 31. For trawl gear, the A season is January 20 through June 10, and the B season is September 1 through November 1 (§ 679.23(d)(3)(i)). After subtraction of incidental catch from the A season, 60 percent of the annual TAC will be available as a DFA during the A season for the inshore and offshore components. The remaining 40 percent of the annual TAC will be available for harvest during the B season. Under § 679.20(a)(12)(ii), any overage or underage of the Pacific cod allowance from the A season may be subtracted from or added to the subsequent B season allowance.

Section 679.20(a)(6)(ii) requires allocation of the TAC apportionments of Pacific cod in all regulatory areas to vessels catching Pacific cod for processing by the inshore and offshore components. Ninety percent of the Pacific cod TAC in each regulatory area is allocated to vessels catching Pacific cod for processing by the inshore component. The remaining 10 percent of the TAC is allocated to vessels catching Pacific cod for processing by the offshore component. Tables 7 and 8 list the seasonal apportionments and allocations of the final 2011 and 2012 Pacific cod TACs, respectively.

Table 7—Final 2011 Seasonal Apportionments and Allocation of Pacific Cod TAC Amounts in the GOA; Allocations for Processing by the Inshore and Offshore Components
[Values are rounded to the nearest metric ton]
Regulatory area | Season | TAC | Component allocation: Inshore (90%) | Component allocation: Offshore (10%)
Western | Annual | 22,785 | 20,507 | 2,279
| A season (60%) | 13,671 | 12,304 | 1,367
| B season (40%) | 9,114 | 8,203 | 911
Central | Annual | 40,362 | 36,326 | 4,036
| A season (60%) | 24,217 | 21,795 | 2,422
| B season (40%) | 16,145 | 14,530 | 1,614
Eastern | Annual | 1,953 | 1,758 | 195
| Total | 65,100 | 58,590 | 6,510

Table 8—Final 2012 Seasonal Apportionments and Allocation of Pacific Cod TAC Amounts in the GOA; Allocations for Processing by the Inshore and Offshore Components
[Values are rounded to the nearest metric ton]
Regulatory area | Season | TAC | Component allocation: Inshore (90%) | Component allocation: Offshore (10%)
Western | Annual | 20,528 | 18,475 | 2,053
| A season (60%) | 12,317 | 11,085 | 1,232
| B season (40%) | 8,211 | 7,390 | 821
Central | Annual | 36,363 | 32,727 | 3,636
| A season (60%) | 21,818 | 19,636 | 2,182
| B season (40%) | 14,545 | 13,091 | 1,455
Eastern | Annual | 1,759 | 1,583 | 176
| Total | 58,650 | 52,785 | 5,865

Demersal Shelf Rockfish (DSR)

The recommended 2011 and 2012 DSR TAC is 300 mt. Management of DSR is delegated to the State. In 2006, the Alaska Board of Fish allocated future SEO District DSR TACs between the commercial fishery (84 percent) and the sport fishery (16 percent) after deductions were made for anticipated subsistence harvests (8 mt). This results in 2011 and 2012 allocations of 245 mt to the commercial fishery and 47 mt to the sport fishery. The Alaska Department of Fish and Game (ADF&G) deducts estimates of incidental catch of DSR in the commercial halibut fishery and test fishery mortality from the DSR commercial fishery allocation. In 2010, this resulted in 100 mt being available for the directed commercial DSR fishery apportioned between four outer coast areas. Only one of these areas, the South Southeast Outside area was open to directed commercial fishery with a GHL of 30 mt and a harvest of 30 mt. DSR harvest in the halibut fishery is linked to the halibut quota; therefore the ADF&G cannot estimate potential DSR incidental catch in that fishery until those quotas are established. Federally permitted catcher vessels using hook-and-line or jig gear fishing for groundfish and Pacific halibut in the SEO District of the GOA are required to retain all DSR (§ 679.20(j)). The ADF&G will announce the opening of directed fishing for DSR in 2011 in January following the International Pacific Halibut Commission's (IPHC) January 2011 annual meeting.

Apportionments to the Central GOA Rockfish Pilot Program

Section 679.81(a)(1) and (2) require the allocation of the primary rockfish species TACs in the Central Regulatory Area, after deducting incidental catch needs in other directed groundfish fisheries, to participants in the Rockfish Program. Five percent (2.5 percent to trawl gear and 2.5 percent to fixed gear) of the final TACs for Pacific ocean perch, northern rockfish, and pelagic shelf rockfish in the Central Regulatory Area are allocated to the entry level rockfish fishery; the remaining 95 percent are allocated to those vessels eligible to participate in the Rockfish Program. The Rockfish Program will expire in December 2011, although the Council has proposed a new program to supersede the existing Rockfish Program by 2012. NMFS is developing a proposed rule to implement the Council's revised program and anticipates that it will be published in the Federal Register for public review and comment early in 2011.

In 2011, NMFS is setting aside incidental catch amounts (ICAs) of 500 mt of Pacific ocean perch, 100 mt of northern rockfish, and 100 mt of pelagic shelf rockfish for other directed fisheries in the Central Regulatory Area. These amounts are based on recent average incidental catch in the Central Regulatory Area by these other groundfish fisheries.

Section 679.83(a)(1)(i) requires that allocations to the trawl entry level fishery must be made first from the allocation of Pacific ocean perch available to the rockfish entry level fishery. If the amount of Pacific ocean perch available for allocation is less than the total allocation allowable for trawl catcher vessels in the rockfish entry level fishery, then northern rockfish and pelagic shelf rockfish must be allocated to trawl catcher vessels. Allocations of Pacific ocean perch, northern rockfish, and pelagic shelf rockfish to longline catcher vessels must be made after the allocations to trawl gear.

Table 9 lists the final 2011 allocations of rockfish in the Central GOA to trawl and longline gear in the entry level rockfish fishery. Allocations of primary rockfish species TACs among participants in the Rockfish Program are not included in the final harvest specifications because applications for catcher/processor and catcher vessel cooperatives are due to NMFS on March 1 of each calendar year, thereby preventing NMFS from calculating final 2011 allocations. NMFS will post these allocations on the Alaska Region Web site (http://alaskafisheries.noaa.gov/sustainablefisheries/goarat/default.htm) when they become available

Table 9—Final 2011 Allocations of Rockfish in the Central Gulf of Alaska to Trawl and Longline Gear ¹ in the Entry-Level Rockfish Fishery
[Values are rounded to the nearest metric ton]
Species | TAC | Incidental catch allowance | TAC minus ICA | 5% TAC | 2.5% TAC | Entry-level trawl allocation | Entry-level longline allocation
Pacific ocean perch | 10,379 | 500 | 9,879 | 494 | 247 | 375 | 119
Northern rockfish | 2,281 | 100 | 2,181 | 109 | 55 | 0 | 109
Pelagic shelf rockfish | 3,052 | 100 | 2,952 | 148 | 74 | 0 | 148
Total | 15,712 | 700 | 15,012 | 751 | 375 | 375 | 375
¹ Longline gear includes jig and hook-and-line gear.

in March 2011.

Halibut PSC Limits

Section 679.21(d) establishes the annual halibut PSC limit apportionments to trawl and hook-and-line gear and permits the establishment of apportionments for pot gear. In December 2010, the Council recommended that NMFS maintain the 2010 halibut PSC limits of 2,000 mt for the trawl fisheries and 300 mt for the hook-and-line fisheries for the 2011 and 2012 groundfish fisheries. Ten mt of the hook-and-line limit is further allocated to the DSR fishery in the SEO District. The DSR fishery is defined at § 679.21(d)(4)(iii)(A). This fishery has been apportioned 10 mt in recognition of its small-scale harvests. Most vessels in the DSR fishery are less than 60 ft (18.3 m) length overall and are exempt from observer coverage. Therefore, observer data are not available to verify actual bycatch amounts. NMFS estimates low halibut bycatch in the DSR fishery because: The duration of the DSR fisheries and the gear soak times are short; the DSR fishery occurs in the winter when less overlap occurs in the distribution of DSR and halibut; and, the directed commercial DSR fishery has a low DSR TAC. Of the 295 mt TAC for DSR in 2010, 100 mt was available for the commercial fishery, of which 30 mt were harvested.

The FMP authorizes the Council to exempt specific gear from the halibut PSC limits. NMFS, after consultation with the Council, exempts pot gear, jig gear, and the sablefish IFQ hook-and-line gear fishery from the non-trawl halibut limit for 2011 and 2012. The Council recommended these exemptions because (1) the pot gear fisheries have low annual halibut bycatch mortality (averaging 19 mt annually from 2001 through 2010); (2) IFQ program regulations prohibit discard of halibut if any halibut IFQ permit holder on board a catcher vessel holds unused halibut IFQ (§ 679.7(f)(11)); sablefish IFQ fishermen typically hold halibut IFQ permits and are therefore required to retain the halibut they catch while fishing sablefish IFQ; and (3) NMFS estimates negligible halibut mortality for the jig gear fisheries. NMFS estimates that halibut mortality is negligible in the jig gear fisheries given the small amount of groundfish harvested by jig gear (averaging 275 mt annually from 2001 through 2010), the selective nature of jig gear, and the high survival rates of halibut caught (and subsequently released) with jig gear.

Section 679.21(d)(5) authorizes NMFS to seasonally apportion the halibut PSC limits after consultation with the Council. The FMP and regulations require the Council and NMFS to consider the following information in seasonally apportioning halibut PSC limits: (1) Seasonal distribution of halibut, (2) seasonal distribution of target groundfish species relative to halibut distribution, (3) expected halibut bycatch needs on a seasonal basis relative to changes in halibut biomass and expected catch of target groundfish species, (4) expected bycatch rates on a seasonal basis, (5) expected changes in directed groundfish fishing seasons, (6) expected actual start of fishing effort, and (7) economic effects of establishing seasonal halibut allocations on segments of the target groundfish industry. The Council obtained the information it considered when setting the halibut PSC limits from the 2010 SAFE report, NMFS catch data, ADF&G catch data, IPHC stock assessment and mortality data, and public testimony.

NMFS concurs in the Council's recommendations listed in Table 10, which shows the final 2011 and 2012 Pacific halibut PSC limits, allowances, and apportionments. Sections 679.21(d)(5)(iii) and (iv) specify that any underages or overages of a seasonal apportionment of a PSC limit will be deducted from or added to the next respective seasonal apportionment within the fishing year.

Table 10—Final 2011 and 2012 Pacific Halibut PSC Limits, Allowances, and Apportionments
[Values are in metric tons]
Trawl gear: Season | Trawl gear: Percent | Trawl gear: Amount | Hook-and-line gear ¹: Other than DSR: Season | Hook-and-line gear ¹: Other than DSR: Percent | Hook-and-line gear ¹: Other than DSR: Amount | Hook-and-line gear ¹: DSR: Season | Hook-and-line gear ¹: DSR: Amount
January 20-April 1 | 27.5 | 550 | January 1-June 10 | 86 | 250 | January 1-December 31 | 10
April 1-July 1 | 20 | 400 | June 10-September 1 | 2 | 5 |  |
July 1-September 1 | 30 | 600 | September 1-December 31 | 12 | 35 |  |
September 1-October 1 | 7.5 | 150 |  |  |  |  |
October 1-December 31 | 15 | 300 |  |  |  |  |
Total |  | 2,000 |  |  | 290 |  | 10
¹ The Pacific halibut PSC limit for hook-and-line gear is allocated to the DSR fishery and fisheries other than DSR. The hook-and-line sablefish fishery is exempt from halibut PSC limits.

Section 679.21(d)(3)(ii) authorizes further apportionment of the trawl halibut PSC limit to trawl fishery categories. The annual apportionments are based on each category's proportional share of the anticipated halibut bycatch mortality during the fishing year and optimization of the total amount of groundfish harvest under the halibut PSC limit. The fishery categories for the trawl halibut PSC limits are (1) a deep-water species category, comprised of sablefish, rockfish, deep-water flatfish, rex sole, and arrowtooth flounder; and (2) a shallow-water species category, comprised of pollock, Pacific cod, shallow-water flatfish, flathead sole, Atka mackerel, skates, and “other species” (§ 679.21(d)(3)(iii)). Table 11 lists the final 2011 and 2012 apportionments of Pacific halibut PSC trawl limits between the trawl gear deep-water and the shallow-water species complexes.

Table 11—Final 2011 and 2012 Apportionment of Pacific Halibut PSC Trawl Limits Between the Trawl Gear Deep-Water Species Complex and the Shallow-Water Species Complex
[Values are in metric tons]
Season | Shallow-water | Deep-water ¹ | Total
January 20-April 1 | 450 | 100 | 550
April 1-July 1 | 100 | 300 | 400
July 1-September 1 | 200 | 400 | 600
September 1-October 1 | 150 | Any remainder | 150
Subtotal January 20-October 1 | 900 | 800 | 1,700
October 1-December 31 ² |  |  | 300
Total |  |  | 2,000
¹ Vessels participating in cooperatives in the Central GOA Rockfish Program will receive a portion of the third season (July 1-September 1) deep-water category halibut PSC apportionment. This amount is not currently known but will be posted later on the Alaska Region Web site (http://alaskafisheries.noaa.gov) when it becomes available.
² There is no apportionment between shallow-water and deep-water trawl fishery categories during the fifth season (October 1-December 31).

Estimated Halibut Bycatch in Prior Years

The best available information on estimated halibut bycatch was data collected by observers during 2010. The calculated halibut bycatch mortality by trawl and hook-and-line gears in 2010 is 1,637 mt and 232 mt, respectively, for a total halibut mortality of 1,869 mt. This mortality was calculated using groundfish and halibut catch data from the NMFS Alaska Region's catch accounting system. This system contains historical and recent catch information compiled from each Alaska groundfish fishery.

Halibut bycatch restrictions seasonally constrained trawl gear fisheries during the 2010 fishing year. Table 12 displays the closure dates for fisheries that resulted from the attainment of seasonal or annual halibut PSC limits. NMFS does not know the amount of groundfish that trawl gear might have harvested if halibut PSC limits had not restricted some 2010 GOA groundfish fisheries. The hook-and-line fishery category was not constrained by halibut bycatch during 2010.

Table 12—2010 Fishery Closures Due to Attainment of Pacific Halibut PSC Limits
Fishery category | Opening date | Closure date | Federal Register citation
Trawl Deep-water, season 1 | January 20, 2010 | April 28, 2010 | 75 FR 23189, May 3, 2010.
Trawl Shallow-water, season 4 | September 1, 2010 | September 3, 2010 | 75 FR 54290, September 7, 2010.
Trawl Shallow-water, season 4 | September 11, 2010 | October 1, 2010 | 75 FR 56017, September 15, 2010.

Current Estimates of Halibut Biomass and Stock Condition

The most recent halibut stock assessment was developed by the IPHC staff in December 2010 for the 2011 commercial fishery; this assessment was considered by the IPHC at its annual January 2011 meeting. Since 2006, the IPHC stock assessment has been fitted to a coastwide data set (including the United States and Canada) to estimate total exploitable biomass. Coastwide exploitable biomass at the beginning of 2011 is estimated to be 317 million pounds (143,790 mt), down from 334 million pounds (151,500 mt) in 2010. The coastwide exploitable biomass was apportioned among regulatory areas in accordance with survey estimates of relative abundance and other considerations.

The halibut resource is fully utilized. Recent catches in the commercial halibut fisheries in Alaska over the last 17 years (1994-2010) have averaged 32,336 mt round weight per year. In December 2010, IPHC staff recommended Alaska commercial catch limits totaling 19,662 mt round weight for 2011, a 21 percent decrease from 25,008 mt in 2010. Through December 31, 2010, commercial hook-and-line harvests of halibut off Alaska totaled 24,095 mt round weight.

The IPHC and its staff have expressed concerns that the IPHC's Slow Up-Fast Down (SUFD) harvest policy adjustments—which applied a policy of a 33 percent increase from the previous year's catch limit and a 50 percent decrease in recommended catch—have not achieved target harvest rate goals due to continued stock declines, decreases in halibut growth rate, and a recent history of high exploitation rates in some areas. The IPHC staff has recommended the SUFD policy be modified to a “Slow Up-Full Down (SUFullD)” policy to achieve the necessary reductions in harvest rate and promote increases in exploitable biomass. The SUFullD policy incorporates the existing policy of a 33 percent increase from the previous year's catch limits when stock yields are expected to increase but would use a 100 percent decrease in recommended catch when stock yields are projected to decrease.

The largest decreases in the 2011 catch limit recommendations in Alaska are for Area 2C, down from 2,661 mt round weight in 2010 to 1,409 mt round weight in 2011 (the decline is primarily the result of the application of the SUFullD harvest policy adjustment), and, for Areas 3A and 3B, down from 18,077 mt round weight in 2010 to 13,233 mt round weight in 2011 (the decline is primarily due to a decline in estimated exploitable biomass).

Additional information on the Pacific halibut stock assessment may be found in the IPHC's 2010 Pacific halibut stock assessment (December 2010), available on the IPHC Web site at http://www.iphc.washington.edu. The IPHC considered the 2010 Pacific halibut assessment for 2011 at its January 2011 annual meeting when it set the 2011 commercial halibut fishery catch limits.

The proposed 2011 and 2012 harvest specifications (75 FR 76352, December 8, 2010) discuss potential impacts of expected fishing for groundfish on halibut stocks, as well as methods available for reducing halibut bycatch in the groundfish fisheries.

Halibut Discard Mortality Rates

The Council recommended that the halibut discard mortality rates (DMRs) developed and recommended by the IPHC for the 2010 through 2012 GOA groundfish fisheries be used to monitor the 2011 and 2012 GOA halibut bycatch mortality allowances. The IPHC will analyze observer data annually and recommend changes to the DMRs when a DMR shows large variation from the mean. Most of the IPHCs assumed DMRs were based on an average of mortality rates determined from NMFS observer data collected between 1999 and 2008. Long-term average DMRs were not available for some fisheries (for example, the deepwater flatfish fishery has not been prosecuted in recent years), so the IPHC used the average rates from the available years between 1999 and 2008. For other fisheries targets (which include Atka mackerel, skates, squids, sharks, octopuses, and sculpins for all gear types; and for the hook-and-line sablefish targets), where no data mortality was available, the IPHC recommended the mortality rate of halibut caught in the Pacific cod fishery for that gear type as a default rate. Table 13 lists the final GOA halibut DMRs for 2011 and 2012. These DMRs are unchanged from the proposed 2011 and 2012 harvest specifications (75 FR 76352, December 8, 2010). A discussion of the DMRs and their justification is presented in Appendix 2 to the 2010 SAFE report (see ADDRESSES).

Table 13—Final 2011 and 2012 Halibut DMRs for Vessels Fishing in the GOA
[Values are percent of halibut bycatch assumed to be dead]
Gear | Target fishery | Final 2011 and 2012 mortality rate (%)
Hook-and-line | Other fisheries¹ | 12
| Pacific cod | 12
| Rockfish | 9
Trawl | Arrowtooth flounder | 72
| Deep-water flatfish | 48
| Flathead sole | 65
| Non-pelagic pollock | 59
| Other fisheries¹ | 62
| Pacific cod | 62
| Pelagic pollock | 76
| Rex sole | 64
| Rockfish | 67
| Sablefish | 65
| Shallow-water flatfish | 71
Pot | Other fisheries¹ | 17
| Pacific cod | 17
¹ Other fisheries include all gear types for Atka mackerel, skates, squid, sharks, octopuses, sculpins, and hook-and-line sablefish.

American Fisheries Act (AFA) Catcher/Processor (C/P) and Catcher Vessel (CV) Groundfish Harvest and PSC Limits

Section 679.64 establishes groundfish harvesting and processing sideboard limitations on AFA C/Ps and CVs in the GOA. These sideboard limits are necessary to protect the interests of fishermen and processors, who do not directly benefit from the AFA, from those fishermen and processors who receive exclusive harvesting and processing privileges under the AFA. Section 679.7(k)(1)(ii) prohibits listed AFA C/Ps from harvesting any species of groundfish in the GOA. Additionally, § 679.7(k)(1)(iv) prohibits listed AFA C/Ps from harvesting any species of groundfish in the GOA. Furthermore, § 679.7(k)(1)(iv) prohibits listed AFA C/Ps from processing any pollock harvested in a directed pollock fishery in the GOA and any groundfish harvested in Statistical Area 630 of the GOA.

AFA CVs that are less than 125 ft (38.1 m) length overall, have annual landings of pollock in the Bering Sea and Aleutian Islands less than 5,100 mt, and have made at least 40 groundfish landings from 1995 through 1997 are exempt from GOA sideboard limits under § 679.64(b)(2)(ii). Sideboard limits for non-exempt AFA CVs in the GOA are based on their traditional harvest levels of TAC in groundfish fisheries covered by the FMP. Section 679.64(b)(3)(iii) establishes the groundfish sideboard limitations in the GOA based on the retained catch of non-exempt AFA CVs of each sideboard species from 1995 through 1997 divided by the TAC for that species over the same period. Tables 14 and 15 list the final 2011 and 2012 non-exempt AFA CV groundfish sideboard limits. NMFS will deduct all targeted or incidental catch of sideboard species made by non-exempt AFA CVs from the sideboard limits specified in Tables 14 and 15.

Table 14—Final 2011 GOA Non-Exempt AFA CV Groundfish Harvest Sideboard Limitations
[Values are rounded to nearest metric ton]
Species | Apportionments by season/gear | Area/component | Ratio of 1995-1997 non-exempt AFA CV catch to 1995-1997 TAC | 2011 TAC | 2011 non-exempt AFA CV sideboard limit
Pollock | A Season | Shumagin (610) | 0.6047 | 4,787 | 2,895
| January 20-March 10 | Chirikof (620) | 0.1167 | 11,896 | 1,388
|  | Kodiak (630) | 0.2028 | 4,475 | 908
| B Season | Shumagin (610) | 0.6047 | 4,787 | 2,895
| March 10-May 31 | Chirikof (620) | 0.1167 | 14,232 | 1,661
|  | Kodiak (630) | 0.2028 | 2,139 | 434
| C Season | Shumagin (610) | 0.6047 | 8,729 | 5,278
| August 25-October 1 | Chirikof (620) | 0.1167 | 5,618 | 656
|  | Kodiak (630) | 0.2028 | 6,811 | 1,381
| D Season | Shumagin (610) | 0.6047 | 8,729 | 5,278
| October 1-November 1 | Chirikof (620) | 0.1167 | 5,618 | 656
|  | Kodiak (630) | 0.2028 | 6,811 | 1,381
| Annual | WYK (640) | 0.3495 | 2,339 | 817
|  | SEO (650) | 0.3495 | 9,245 | 3,231
Pacific cod | A Season ¹ | W inshore | 0.1365 | 12,303 | 1,679
| January 1-June 10 | W offshore | 0.1026 | 1,367 | 140
|  | C inshore | 0.0689 | 21,795 | 1,502
|  | C offshore | 0.0721 | 2,422 | 175
| B Season ² | W inshore | 0.1365 | 8,202 | 1,120
| September 1—December 31 | W offshore | 0.1026 | 911 | 94
|  | C inshore | 0.0689 | 14,530 | 1,001
|  | C offshore | 0.0721 | 1,614 | 116
| Annual | E inshore | 0.0079 | 1,758 | 14
|  | E offshore | 0.0078 | 195 | 2
Sablefish | Annual, trawl gear | W | 0.0000 | 334 | 0
|  | C | 0.0642 | 948 | 61
|  | E | 0.0433 | 247 | 11
Flatfish, Shallow-water | Annual | W | 0.0156 | 4,500 | 70
|  | C | 0.0587 | 13,000 | 763
|  | E | 0.0126 | 1,228 | 15
Flatfish, deep-water | Annual | W | 0.0000 | 529 | 0
|  | C | 0.0647 | 2,919 | 189
|  | E | 0.0128 | 2,083 | 27
Rex sole | Annual | W | 0.0007 | 1,517 | 1
|  | C | 0.0384 | 6,294 | 242
|  | E | 0.0029 | 868 | 3
Arrowtooth flounder | Annual | W | 0.0021 | 8,000 | 17
|  | C | 0.0280 | 30,000 | 840
|  | E | 0.0002 | 2,500 | 1
Flathead sole | Annual | W | 0.0036 | 2,000 | 7
|  | C | 0.0213 | 5,000 | 107
|  | E | 0.0009 | 2,064 | 2
Pacific ocean perch | Annual | W | 0.0023 | 2,798 | 6
|  | C | 0.0748 | 10,379 | 776
|  | E | 0.0466 | 1,937 | 90
Northern rockfish | Annual | W | 0.0003 | 2,573 | 1
|  | C | 0.0277 | 2,281 | 63
Shortraker rockfish | Annual | W | 0.0000 | 134 | 0
|  | C | 0.0218 | 325 | 7
|  | E | 0.0100 | 455 | 5
Other rockfish | Annual | W | 0.0034 | 212 | 1
|  | C | 0.1699 | 507 | 86
|  | E | 0.0000 | 276 | 0
Pelagic shelf rockfish | Annual | W | 0.0001 | 611 | 0
|  | C | 0.0000 | 3,052 | 0
|  | E | 0.0067 | 407 | 3
Rougheye rockfish | Annual | W | 0.0000 | 81 | 0
|  | C | 0.0237 | 868 | 21
|  | E | 0.0124 | 363 | 5
Demersal shelf rockfish | Annual | SEO | 0.0020 | 300 | 1
Thornyhead rockfish | Annual | W | 0.0280 | 425 | 12
|  | C | 0.0280 | 637 | 18
|  | E | 0.0280 | 708 | 20
Atka mackerel | Annual | Gulfwide | 0.0309 | 2,000 | 62
Big skates | Annual | W | 0.0063 | 598 | 4
|  | C | 0.0063 | 2,049 | 13
|  | E | 0.0063 | 681 | 4
Longnose skates | Annual | W | 0.0063 | 81 | 1
|  | C | 0.0063 | 2,009 | 13
|  | E | 0.0063 | 762 | 5
Other skates | Annual | Gulfwide | 0.0063 | 2,093 | 13
Squids | Annual | Gulfwide | 0.0063 | 1,148 | 7
Sharks | Annual | Gulfwide | 0.0063 | 6,197 | 39
Octopuses | Annual | Gulfwide | 0.0063 | 954 | 6
Sculpins | Annual | Gulfwide | 0.0063 | 5,496 | 35
¹ The Pacific cod A season for trawl gear does not open until January 20.
² The Pacific cod B season for trawl gear closes November 1.

Table 15—Final 2012 GOA Non-Exempt AFA CV Groundfish Harvest Sideboard Limitations
[Values are rounded to nearest metric ton]
Species | Apportionments by season/gear | Area/component | Ratio of 1995-1997 non-exempt AFA CV catch to 1995-1997 TAC | 2012 TAC | 2012 non-exempt AFA CV sideboard limit
Pollock | A Season | Shumagin (610) | 0.6047 | 6,186 | 3,741
| January 20-March 10 | Chirikof (620) | 0.1167 | 15,374 | 1,794
|  | Kodiak (630) | 0.2028 | 5,783 | 1,173
| B Season | Shumagin (610) | 0.6047 | 6,185 | 3,740
| March 10-May 31 | Chirikof (620) | 0.1167 | 18,392 | 2,146
|  | Kodiak (630) | 0.2028 | 2,765 | 561
| C Season | Shumagin (610) | 0.6047 | 11,280 | 6,821
| August 25-October 1 | Chirikof (620) | 0.1167 | 7,262 | 847
|  | Kodiak (630) | 0.2028 | 8,803 | 1,785
| D Season | Shumagin (610) | 0.6047 | 11,280 | 6,821
| October 1-November 1 | Chirikof (620) | 0.1167 | 7,262 | 847
|  | Kodiak (630) | 0.2028 | 8,803 | 1,785
| Annual | WYK (640) | 0.3495 | 3,024 | 1,057
|  | SEO (650) | 0.3495 | 9,245 | 3,231
Pacific cod | A Season ¹ | W inshore | 0.1365 | 18,475 | 2,522
| January 1-June 10 | W offshore | 0.1026 | 2,053 | 211
|  | C inshore | 0.0689 | 19,636 | 1,353
|  | C offshore | 0.0721 | 2,182 | 157
| B Season ² | W inshore | 0.1365 | 7,390 | 1,009
| September 1-December 31 | W offshore | 0.1026 | 821 | 84
|  | C inshore | 0.0689 | 13,091 | 902
|  | C offshore | 0.0721 | 1,455 | 105
| Annual | E inshore | 0.0079 | 1,583 | 13
|  | E offshore | 0.0078 | 176 | 1
Sablefish | Annual, trawl gear | W | 0.0000 | 297 | 0
|  | C | 0.0642 | 869 | 56
|  | E | 0.0433 | 226 | 10
Flatfish, Shallow-water | Annual | W | 0.0156 | 4,500 | 70
|  | C | 0.0587 | 13,000 | 763
|  | E | 0.0126 | 1,228 | 15
Flatfish, deep-water | Annual | W | 0.0000 | 541 | 0
|  | C | 0.0647 | 3,004 | 194
|  | E | 0.0128 | 2,144 | 27
Rex sole | Annual | W | 0.0007 | 1,490 | 1
|  | C | 0.0384 | 6,184 | 237
|  | E | 0.0029 | 853 | 2
Arrowtooth flounder | Annual | W | 0.0021 | 8,000 | 17
|  | C | 0.0280 | 30,000 | 840
|  | E | 0.0002 | 2,500 | 1
Flathead sole | Annual | W | 0.0036 | 2,000 | 7
|  | C | 0.0213 | 5,000 | 107
|  | E | 0.0009 | 2,125 | 2
Pacific ocean perch | Annual | W | 0.0023 | 2,665 | 6
|  | C | 0.0748 | 9,884 | 739
|  | E | 0.0466 | 1,845 | 86
Northern rockfish | Annual | W | 0.0003 | 2,446 | 1
|  | C | 0.0277 | 2,168 | 60
Shortraker rockfish | Annual | W | 0.0000 | 134 | 0
|  | C | 0.0218 | 325 | 7
|  | E | 0.0100 | 455 | 5
Other rockfish | Annual | W | 0.0034 | 212 | 0
|  | C | 0.1699 | 507 | 86
|  | E | 0.0000 | 475 | 0
Pelagic shelf rockfish | Annual | W | 0.0001 | 570 | 0
|  | C | 0.0000 | 2,850 | 0
|  | E | 0.0067 | 380 | 3
Rougheye rockfish | Annual | W | 0.0000 | 81 | 0
|  | C | 0.0237 | 868 | 21
|  | E | 0.0124 | 363 | 5
Demersal shelf rockfish | Annual | SEO | 0.0020 | 300 | 1
Thornyhead rockfish | Annual | W | 0.0280 | 425 | 12
|  | C | 0.0280 | 637 | 18
|  | E | 0.0280 | 708 | 20
Atka mackerel | Annual | Gulfwide | 0.0309 | 2,000 | 62
Big skates | Annual | W | 0.0063 | 598 | 4
|  | C | 0.0063 | 2,049 | 13
|  | E | 0.0063 | 681 | 4
Longnose skates | Annual | W | 0.0063 | 81 | 0
|  | C | 0.0063 | 2,009 | 13
|  | E | 0.0063 | 762 | 5
Other skates | Annual | Gulfwide | 0.0063 | 2,093 | 13
Squids | Annual | Gulfwide | 0.0063 | 1,148 | 7
Sharks | Annual | Gulfwide | 0.0063 | 6,197 | 39
Octopuses | Annual | Gulfwide | 0.0063 | 954 | 6
Sculpins | Annual | Gulfwide | 0.0063 | 5,496 | 35
¹ The Pacific cod A season for trawl gear does not open until January 20.
² The Pacific cod B season for trawl gear closes November 1.

Non-Exempt AFA Catcher Vessel Halibut PSC Limits

The halibut PSC sideboard limits for non-exempt AFA CVs in the GOA are based on the aggregate retained groundfish catch by non-exempt AFA CVs in each PSC target category from 1995 through 1997 divided by the retained catch of all vessels in that fishery from 1995 through 1997 (§ 679.64(b)(4)). Table 16 lists the final 2011 and 2012 non-exempt AFA CV halibut PSC limits for vessels using trawl gear in the GOA. These halibut PSC limits are unchanged from the proposed 2011 and 2012 harvest specifications.

Table 16—Final 2011 and 2012 Non-Exempt AFA CV Halibut Prohibited Species Catch (PSC) Limits for Vessels Using Trawl Gear in the GOA
[Values are rounded to nearest metric ton]
Season | Season dates | Target fishery | Ratio of 1995-1997 non-exempt AFA CV retained catch to total retained catch | 2011 and 2012 PSC limit | 2011 and 2012 non-exempt AFA CV PSC limit
1 | January 20-April 1 | shallow-water | 0.340 | 450 | 153
|  | deep-water | 0.070 | 100 | 7
2 | April 1-July 1 | shallow-water | 0.340 | 100 | 34
|  | deep-water | 0.070 | 300 | 21
3 | July 1-September 1 | shallow-water | 0.340 | 200 | 68
|  | deep-water | 0.070 | 400 | 28
4 | September 1-October 1 | shallow-water | 0.340 | 150 | 51
|  | deep-water | 0.070 | 0 | 0
5 | October 1-December 31 | all targets | 0.205 | 300 | 62

Non-AFA Crab Vessel Groundfish Harvest Limitations

Section 680.22 establishes groundfish catch limits for vessels with a history of participation in the Bering Sea snow crab fishery to prevent these vessels from using the increased flexibility provided by the Crab Rationalization Program to expand their level of participation in the GOA groundfish fisheries. Sideboard limits restrict these vessels' catch to their collective historical landings in each GOA groundfish fishery (except the fixed-gear sablefish fishery). Sideboard limits also apply to catch made using a LLP license derived from the history of a restricted vessel, even if that LLP license is used on another vessel.

Sideboard limits for non-AFA crab vessels in the GOA are based on their traditional harvest levels of TAC in groundfish fisheries covered by the FMP. Sections 680.22(d) and (e) establish the formulas used to calculate groundfish sideboard limitations in the GOA. These limitations are calculated by dividing the non-AFA crab vessels' retained catch for each sideboard species from 1996-2000 by the total retained harvest of that species over the same period. The resultant ratios are applied against annual TAC limits to establish annual sideboard limits for individual species. Tables 18 and 19 list these final 2011 and 2012 GOA groundfish sideboard limits for non-AFA crab vessels. NMFS will deduct all targeted or incidental catch of sideboard species made by non-AFA crab vessels from the sideboard limits specified in Tables 17 and 18. The sideboard limits in these tables are different from those contained in the proposed 2011 and 2012 harvest specifications, since the TACs in Tables 17 and 18 have been updated to reflect the final 2011 and 2012 TACs contained in Tables 1 and 2 of this rule.

Vessels exempt from Pacific cod sideboards are those that landed less than 45,359 kilograms of Bering Sea snow crab and more than 500 mt of groundfish (in round weight equivalents) from the GOA between January 1, 1996, and December 31, 2000, and any vessel named on an LLP that was generated in whole or in part by the fishing history of a vessel meeting the criteria in § 680.22(a)(3).

Table 17—Final 2011 GOA Non-American Fisheries Act Crab Vessel Groundfish Harvest Sideboard Limits
[Values are rounded to nearest metric ton]
Species | Season/gear | Area/component | Ratio of 1996-2000 non-AFA crab vessel catch to 1996-2000 total harvest | 2011 TAC | 2011 non-AFA crab vessel sideboard limit
Pollock | A Season | Shumagin (610) | 0.0098 | 4,787 | 47
| January 20-March 10 | Chirikof (620) | 0.0031 | 11,896 | 37
|  | Kodiak (630) | 0.0002 | 4,475 | 1
| B Season | Shumagin (610) | 0.0098 | 4,787 | 47
| March 10-May 31 | Chirikof (620) | 0.0031 | 14,232 | 44
|  | Kodiak (630) | 0.0002 | 2,139 | 0
| C Season | Shumagin (610) | 0.0098 | 8,729 | 86
| August 25-October 1 | Chirikof (620) | 0.0031 | 5,618 | 17
|  | Kodiak (630) | 0.0002 | 6,811 | 1
| D Season | Shumagin (610) | 0.0098 | 8,729 | 86
| October 1-November 1 | Chirikof (620) | 0.0031 | 5,618 | 17
|  | Kodiak (630) | 0.0002 | 6,811 | 1
| Annual | WYK (640) | 0.0000 | 2,339 | 0
|  | SEO (650) | 0.0000 | 9,245 | 0
Pacific cod | A Season ¹ | W inshore | 0.0902 | 12,303 | 1,110
| January 1-June 10 | W offshore | 0.2046 | 1,367 | 280
|  | C inshore | 0.0383 | 21,795 | 835
|  | C offshore | 0.2074 | 2,422 | 502
| B Season ² | W inshore | 0.0902 | 8,202 | 740
| September 1-December 31 | W offshore | 0.2046 | 911 | 186
|  | C inshore | 0.0383 | 14,530 | 557
|  | C offshore | 0.2074 | 1,614 | 335
| Annual | E inshore | 0.0110 | 1,758 | 19
|  | E offshore | 0.0000 | 195 | 0
Sablefish | Annual, trawl gear | W | 0.0000 | 334 | 0
|  | C | 0.0000 | 948 | 0
|  | E | 0.0000 | 247 | 0
Flatfish, shallow-water | Annual | W | 0.0059 | 4,500 | 27
|  | C | 0.0001 | 13,000 | 1
|  | E | 0.0000 | 1,228 | 0
Flatfish, deep-water | Annual | W | 0.0035 | 529 | 2
|  | C | 0.0000 | 2,919 | 0
|  | E | 0.0000 | 2,083 | 0
Rex sole | Annual | W | 0.0000 | 1,517 | 0
|  | C | 0.0000 | 6,294 | 0
|  | E | 0.0000 | 868 | 0
Arrowtooth flounder | Annual | W | 0.0004 | 8,000 | 3
|  | C | 0.0001 | 30,000 | 3
|  | E | 0.0000 | 2,500 | 0
Flathead sole | Annual | W | 0.0002 | 2,000 | 0
|  | C | 0.0004 | 5,000 | 2
|  | E | 0.0000 | 2,064 | 0
Pacific ocean perch | Annual | W | 0.0000 | 2,798 | 0
|  | C | 0.0000 | 10,379 | 0
|  | E | 0.0000 | 1,937 | 0
Northern rockfish | Annual | W | 0.0005 | 2,573 | 1
|  | C | 0.0000 | 2,281 | 0
Shortraker rockfish | Annual | W | 0.0013 | 134 | 0
|  | C | 0.0012 | 325 | 0
|  | E | 0.0009 | 455 | 0
Other rockfish | Annual | W | 0.0035 | 212 | 1
|  | C | 0.0033 | 507 | 2
|  | E | 0.0000 | 276 | 0
Pelagic shelf rockfish | Annual | W | 0.0017 | 611 | 1
|  | C | 0.0000 | 3,052 | 0
|  | E | 0.0000 | 407 | 0
Rougheye rockfish | Annual | W | 0.0067 | 81 | 1
|  | C | 0.0047 | 868 | 4
|  | E | 0.0008 | 363 | 0
Demersal shelf rockfish | Annual | SEO | 0.0000 | 300 | 0
Thornyhead rockfish | Annual | W | 0.0047 | 425 | 2
|  | C | 0.0066 | 637 | 4
|  | E | 0.0045 | 708 | 3
Atka mackerel | Annual | Gulfwide | 0.0000 | 2,000 | 0
Big skate | Annual | W | 0.0392 | 598 | 23
|  | C | 0.0159 | 2,049 | 33
|  | E | 0.0000 | 681 | 0
Longnose skate | Annual | W | 0.0392 | 81 | 3
|  | C | 0.0159 | 2,009 | 32
|  | E | 0.0000 | 762 | 0
Other skates | Annual | Gulfwide | 0.0176 | 2,093 | 37
Squids | Annual | Gulfwide | 0.0176 | 1,148 | 20
Sharks | Annual | Gulfwide | 0.0176 | 6,197 | 109
Octopuses | Annual | Gulfwide | 0.0176 | 954 | 17
Sculpins | Annual | Gulfwide | 0.0176 | 5,496 | 97
¹ The Pacific cod A season for trawl gear does not open until January 20.
² The Pacific cod B season for trawl gear closes November 1.

Table 18—Final 2012 GOA Non-American Fisheries Act Crab Vessel Groundfish Harvest Sideboard Limits
[Values are rounded to nearest metric ton]
Species | Season/gear | Area/component | Ratio of 1996-2000 non-AFA crab vessel catch to 1996-2000 total harvest | 2012 TAC | 2012 non-AFA crab vessel sideboard limit
Pollock | A Season | Shumagin (610) | 0.0098 | 6,186 | 61
| January 20-March 10 | Chirikof (620) | 0.0031 | 15,374 | 48
|  | Kodiak (630) | 0.0002 | 5,783 | 1
| B Season | Shumagin (610) | 0.0098 | 6,185 | 61
| March 10-May 31 | Chirikof (620) | 0.0031 | 18,393 | 57
|  | Kodiak (630) | 0.0002 | 2,765 | 1
| C Season | Shumagin (610) | 0.0098 | 11,280 | 111
| August 25-October 1 | Chirikof (620) | 0.0031 | 7,262 | 23
|  | Kodiak (630) | 0.0002 | 8,803 | 2
| D Season | Shumagin (610) | 0.0098 | 11,280 | 111
| October 1-November 1 | Chirikof (620) | 0.0031 | 7,262 | 23
|  | Kodiak (630) | 0.0002 | 8,803 | 2
| Annual | WYK (640) | 0.0000 | 3,024 | 0
|  | SEO (650) | 0.0000 | 9,245 | 0
Pacific cod | A Season ¹ | W inshore | 0.0902 | 11,085 | 1,000
| January 1-June 10 | W offshore | 0.2046 | 1,232 | 252
|  | C inshore | 0.0383 | 19,636 | 752
|  | C offshore | 0.2074 | 2,182 | 453
| B Season ² | W inshore | 0.0902 | 7,390 | 667
| September 1-December 31 | W offshore | 0.2046 | 821 | 168
|  | C inshore | 0.0383 | 13,091 | 501
|  | C offshore | 0.2074 | 1,455 | 302
| Annual | E inshore | 0.0110 | 1,583 | 17
|  | E offshore | 0.0000 | 176 | 0
Sablefish | Annual, trawl gear | W | 0.0000 | 297 | 0
|  | C | 0.0000 | 869 | 0
|  | E | 0.0000 | 226 | 0
Flatfish, shallow-water | Annual | W | 0.0059 | 4,500 | 27
|  | C | 0.0001 | 13,000 | 1
|  | E | 0.0000 | 1,228 | 0
Flatfish, deep-water | Annual | W | 0.0035 | 541 | 2
|  | C | 0.0000 | 3,004 | 0
|  | E | 0.0000 | 2,144 | 0
Rex sole | Annual | W | 0.0000 | 1,490 | 0
|  | C | 0.0000 | 6,184 | 0
|  | E | 0.0000 | 853 | 0
Arrowtooth flounder | Annual | W | 0.0004 | 8,000 | 3
|  | C | 0.0001 | 30,000 | 3
|  | E | 0.0000 | 2,500 | 0
Flathead sole | Annual | W | 0.0002 | 2,000 | 0
|  | C | 0.0004 | 5,000 | 2
|  | E | 0.0000 | 2,125 | 0
Pacific ocean perch | Annual | W | 0.0000 | 2,665 | 0
|  | C | 0.0000 | 9,884 | 0
|  | E | 0.0000 | 1,845 | 0
Northern rockfish | Annual | W | 0.0005 | 2,446 | 1
|  | C | 0.0000 | 2,168 | 0
Shortraker rockfish | Annual | W | 0.0013 | 134 | 0
|  | C | 0.0012 | 325 | 0
|  | E | 0.0009 | 455 | 0
Other rockfish | Annual | W | 0.0035 | 212 | 1
|  | C | 0.0033 | 507 | 2
|  | E | 0.0000 | 275 | 0
Pelagic shelf rockfish | Annual | W | 0.0017 | 570 | 1
|  | C | 0.0000 | 2,850 | 0
|  | E | 0.0000 | 380 | 0
Rougheye shelf rockfish | Annual | W | 0.0067 | 81 | 1
|  | C | 0.0047 | 868 | 4
|  | E | 0.0008 | 363 | 0
Demersal shelf rockfish | Annual | SEO | 0.0000 | 300 | 0
Thornyhead rockfish | Annual | W | 0.0047 | 425 | 2
|  | C | 0.0066 | 637 | 4
|  | E | 0.0045 | 708 | 3
Atka mackerel | Annual | Gulfwide | 0.0000 | 2,000 | 0
Big skate | Annual | W | 0.0392 | 598 | 23
|  | C | 0.0159 | 2,049 | 33
|  | E | 0.0000 | 681 | 0
Longnose skate | Annual | W | 0.0392 | 81 | 3
|  | C | 0.0159 | 2,009 | 32
|  | E | 0.0000 | 762 | 0
Other skates | Annual | Gulfwide | 0.0176 | 2,093 | 37
Squids | Annual | Gulfwide | 0.0176 | 1,148 | 20
Sharks | Annual | Gulfwide | 0.0176 | 6,197 | 109
Octopuses | Annual | Gulfwide | 0.0176 | 954 | 17
Sculpins | Annual | Gulfwide | 0.0176 | 5,496 | 97
¹ The Pacific cod A season for trawl gear does not open until January 20.
² The Pacific cod B season for trawl gear closes November 1.

Rockfish Program Groundfish Sideboard Limitations and Halibut Mortality Limitations

Section 679.82(d) establishes sideboards to limit the ability of participants eligible for the Rockfish Program to harvest fish in fisheries other than the Central GOA rockfish fisheries. The Rockfish Program provides certain economic advantages, which could be used to increase their participation in other fisheries and possibly adversely affect the existing participants in those fisheries. Traditionally, the Central GOA rockfish fisheries opened in July. The sideboards are designed to restrict fishing during the historical season for the fishery, but allow eligible rockfish harvesters to participate in fisheries before or after the historical rockfish season.

The final sideboards for 2011 limit the total amount of catch that could be taken by eligible harvesters and limit the amount of halibut mortality to historic levels. The sideboard measures are in effect only during the month of July. Table 19 lists the final 2011 Rockfish Program harvest limits in the WYK District and the Western GOA. These limits reflect the final 2011 pelagic shelf rockfish, Pacific ocean perch, and northern rockfish TACs established by this action, including some changes from the proposed 2011 harvest specifications. Table 20 lists the final 2011 Rockfish Program halibut mortality limits for C/Ps and CVs. These mortality limits are unchanged from the proposed 2011 harvest specifications.

As discussed earlier in this preamble, the Rockfish Program will expire in December 2011. The Council has proposed a new, revised program and associated FMP amendment. NMFS is developing rulemaking to implement the program, if approved by the Secretary. The proposed rule and, if approved, the final rule for the new Rockfish Program will include revised groundfish sideboards and halibut mortality limits for 2012. Since the current Rockfish Program expires at the end of 2011, these final harvest specifications for groundfish sideboards and halibut mortality limits are only for 2011.

Table 19—Final 2011 Rockfish Program Harvest Limits by Sector for WYK District and Western Regulatory Area by the Catcher/Processor (C/P) and Catcher Vessel (CV) Sectors
[Values are rounded to nearest metric ton]
Area | Fishery | C/P sector (% of TAC) | CV sector (% of TAC) | 2011 TAC | 2011 C/P limit | 2011 CV limit
West Yakutat District | Pelagic shelf rockfish | 72.4 | 1.7 | 407 | 295 | 7
| Pacific ocean perch | 76.0 | 2.9 | 1,937 | 1,472 | 56
Western GOA | Pelagic shelf rockfish | 63.3 | 0 | 611 | 387 | 0
| Pacific ocean perch | 61.1 | 0 | 2,798 | 1,710 | 0
| Northern rockfish | 78.9 | 0 | 2,573 | 2,030 | 0

Table 20—Final 2011 Rockfish Program Halibut Mortality Limits for the Catcher/Processor (C/P) and Catcher Vessel (CV) Sectors
[Values are rounded to nearest metric ton]
Sector | Shallow-water complex halibut PSC sideboard ratio (percent) | Deep-water complex halibut PSC sideboard ratio (percent) | Annual halibut mortality limit (mt) | Annual shallow-water complex halibut PSC sideboard limit (mt) | Annual deep-water complex halibut PSC sideboard limit (mt)
C/P | 0.54 | 3.99 | 2,000 | 11 | 80
CV | 6.32 | 1.08 | 2,000 | 126 | 22

GOA Amendment 80 Vessel Groundfish Harvest and PSC Limits

Amendment 80 to the Fishery Management Plan for Groundfish of the Bering Sea and Aleutian Islands Management Area (Amendment 80 program) established a limited access privilege program for the non-AFA trawl C/P sector. To limit the ability of participants eligible for the Amendment 80 program to expand their harvest efforts in the GOA, the Amendment 80 program established groundfish and halibut PSC catch limits for Amendment 80 program participants.

Section 679.92 establishes groundfish harvesting sideboard limits on all Amendment 80 program vessels, other than the F/V GOLDEN FLEECE, to amounts no greater than the limits shown in Table 37 to 50 CFR part 679. Under regulations at § 679.92(d), the F/V GOLDEN FLEECE is prohibited from directed fishing for pollock, Pacific cod, Pacific ocean perch, pelagic shelf rockfish, and northern rockfish in the GOA. Groundfish sideboard limits for Amendment 80 program vessels operating in the GOA are based on their average aggregate harvests from 1998 to 2004. Tables 21 and 22 list the final 2011 and 2012 sideboard limits for Amendment 80 program vessels. These limits are based on the final 2011 and 2012 TACs established by this action, and thus may differ proportionately from the sideboard limits in the proposed 2011 and 2012 harvest specifications. NMFS will deduct all targeted or incidental catch of sideboard species made by Amendment 80 program vessels from the sideboard limits in Tables 21 and 22.

Table 21—Final 2011 GOA Groundfish Sideboard Limits for Amendment 80 Program Vessels
[Values are rounded to nearest metric ton]
Species | Apportionments and allocations by season | Area | Ratio of Amendment 80 sector vessels 1998-2004 catch to TAC | 2011 TAC (mt) | 2011 Amendment 80 vessel sideboards (mt)
Pollock | A Season | Shumagin (610) | 0.003 | 4,786 | 14
| January 20-February 25 | Chirikof (620) | 0.002 | 11,895 | 24
|  | Kodiak (630) | 0.002 | 4,475 | 9
| B Season | Shumagin (610) | 0.003 | 4,876 | 14
| March 10-May 31 | Chirikof (620) | 0.002 | 14,231 | 28
|  | Kodiak (630) | 0.002 | 2,139 | 4
| C Season | Shumagin (610) | 0.003 | 8,729 | 26
| August 25-September 15 | Chirikof (620) | 0.002 | 5,619 | 11
|  | Kodiak (630) | 0.002 | 6,812 | 14
| D Season | Shumagin (610) | 0.003 | 8,729 | 26
| October 1-November 1 | Chirikof (620) | 0.002 | 5,619 | 11
|  | Kodiak (630) | 0.002 | 6,812 | 14
| Annual | WYK (640) | 0.002 | 2,339 | 5
Pacific cod | A Season ¹ | W | 0.020 | 13,671 | 273
| January 1-June 10 | C | 0.044 | 24,217 | 1,066
| B Season ² | W | 0.020 | 9,114 | 182
| September 1-December 31 | C | 0.044 | 16,145 | 710
| Annual | WYK | 0.034 | 1,953 | 66
Pacific ocean perch | Annual | W | 0.994 | 2,798 | 2,781
|  | WYK | 0.961 | 1,937 | 1,861
Northern rockfish | Annual | W | 1.000 | 2,573 | 2,573
Pelagic shelf rockfish | Annual | W | 0.764 | 611 | 467
|  | WYK | 0.896 | 407 | 365
¹ The Pacific cod A season for trawl gear does not open until January 20.
² The Pacific cod B season for trawl gear closes November 1.

Table 22—Final 2012 GOA Groundfish Sideboard Limits for Amendment 80 Program Vessels
[Values are rounded to nearest metric ton]
Species | Apportionments and allocations by season | Area | Ratio of Amendment 80 sector vessels 1998-2004 catch to TAC | 2012 TAC (mt) | 2012 Amendment 80 vessel sideboards (mt)
Pollock | A Season | Shumagin (610) | 0.003 | 6,186 | 19
| January 20-February 25 | Chirikof (620) | 0.002 | 15,375 | 31
|  | Kodiak (630) | 0.002 | 5,783 | 12
| B Season | Shumagin (610) | 0.003 | 6,186 | 19
| March 10-May 31 | Chirikof (620) | 0.002 | 18,392 | 37
|  | Kodiak (630) | 0.002 | 2,765 | 6
| C Season | Shumagin (610) | 0.003 | 11,281 | 34
| August 25-September 15 | Chirikof (620) | 0.002 | 7,261 | 15
|  | Kodiak (630) | 0.002 | 8,803 | 18
| D Season | Shumagin (610) | 0.003 | 11,281 | 34
| October 1-November 1 | Chirikof (620) | 0.002 | 7,261 | 15
|  | Kodiak (630) | 0.002 | 8,803 | 18
| Annual | WYK (640) | 0.002 | 3,024 | 6
Pacific cod | A Season ¹ | W | 0.020 | 12,317 | 246
| January 1-June 10 | C | 0.044 | 21,817 | 960
| B Season ² | W | 0.020 | 8,211 | 164
| September 1-December 31 | C | 0.044 | 14,545 | 640
| Annual | WYK | 0.034 | 1,759 | 60
Pacific ocean perch | Annual | W | 0.994 | 2,665 | 2,649
|  | WYK | 0.961 | 1,845 | 1,773
Northern rockfish | Annual | W | 1.000 | 2,446 | 2,446
Pelagic shelf rockfish | Annual | W | 0.764 | 570 | 435
|  | WYK | 0.896 | 380 | 340
¹ The Pacific cod A season for trawl gear does not open until January 20.
² The Pacific cod B season for trawl gear closes November 1.

The halibut PSC sideboard limits for Amendment 80 program vessels in the GOA are based on the historic use of halibut PSC by Amendment 80 program vessels in each PSC target category from 1998 through 2004. These values are slightly lower than the average historic use to accommodate two factors: allocation of halibut PSC cooperative quota under the Central GOA Rockfish Program and the exemption of the F/V GOLDEN FLEECE from this restriction (§ 679.92(b)(2)). Table 23 lists the final 2011 and 2012 halibut PSC limits for Amendment 80 program vessels, as proscribed at Table 38 to 50 CFR part 679. These PSC limits are unchanged from those listed in the proposed 2011 and 2012 harvest specifications.

Table 23—Final 2011 and 2012 Halibut PSC Limits for Amendment 80 Program Vessels in the GOA
[Values are rounded to nearest metric ton]
Season | Season dates | Target fishery | Historic Amendment 80 use of the annual halibut PSC limit catch (ratio) | 2011 and 2012 annual PSC limit (mt) | 2011 and 2012 Amendment 80 vessel PSC limit (mt)
1 | January 20-April 1 | shallow-water | 0.0048 | 2,000 | 10
|  | deep-water | 0.0115 | 2,000 | 23
2 | April 1-July 1 | shallow-water | 0.0189 | 2,000 | 38
|  | deep-water | 0.1072 | 2,000 | 214
3 | July 1-September 1 | shallow-water | 0.0146 | 2,000 | 29
|  | deep-water | 0.0521 | 2,000 | 104
4 | September 1-October 1 | shallow-water | 0.0074 | 2,000 | 15
|  | deep-water | 0.0014 | 2,000 | 3
5 | October 1-December 31 | shallow-water | 0.0227 | 2,000 | 45
|  | deep-water | 0.0371 | 2,000 | 74

Directed Fishing Closures

Pursuant to § 679.20(d)(1)(i), if the Regional Administrator determines (1) that any allocation or apportionment of a target species or species group allocated or apportioned to a fishery will be reached; or (2) with respect to pollock and Pacific cod, that an allocation or apportionment to an inshore or offshore component allocation will be reached, the Regional Administrator may establish a DFA for that species or species group. If the Regional Administrator establishes a DFA and that allowance is or will be reached before the end of the fishing year, NMFS will prohibit directed fishing for that species or species group in the specified GOA regulatory area or district (§ 679.20(d)(1)(iii)).

The Regional Administrator has determined that the TAC limits for the species listed in Table 24 are necessary to account for the incidental catch of these species in other anticipated groundfish fisheries for the 2011 and 2012 fishing years.

Table 24—2011 and 2012 Directed Fishing Closures in the GOA
[Amounts for incidental catch in other directed fisheries are in metric tons]
Target | Area/component/gear | Incidental catch amount
Pollock | all/offshore | ¹ unknown
Sablefish² | all/trawl | 1,519 (2011)
|  | 1,391 (2012)
Shortraker rockfish² | all | 914
Other rockfish | all | 1,195 (2011)
|  | 1,194 (2012)
Rougheye rockfish | all | 1,312
Thornyhead | all | 1,770
Atka mackerel | all | 2,000
Big skate | all | 3,328
Longnose skate | all | 2,852
Other skates | all | 2,093
Squids | all | 1,148
Sharks | all | 6,197
Octopuses | all | 954
¹ Pollock is closed to directed fishing in the GOA by the offshore component under § 679.20(a)(6)(i).
² Closures not applicable to participants in cooperatives conducted under the Rockfish Pilot Program.

Consequently, in accordance with § 679.20(d)(1)(i), the Regional Administrator establishes the DFA for the species or species groups listed in Table 24 as zero mt. Therefore, in accordance with § 679.20(d)(1)(iii), NMFS is prohibiting directed fishing for those species, areas, gear types, and components in the GOA listed in Table 24. These closures will remain in effect through 2400 hrs, A.l.t., December 31, 2012.

Section 679.64(b)(5) provides for management of AFA CV groundfish harvest limits and PSC bycatch limits using directed fishing closures and PSC closures according to procedures set out at §§ 679.20(d)(1)(iv), 679.21(d)(8), and 679.21(e)(3)(v). The Regional Administrator has determined that, in addition to the closures listed above, many of the non-exempt AFA CV sideboard limits listed in Tables 14 and 15 are necessary as incidental catch to support other anticipated groundfish fisheries for the 2011 and 2012 fishing years. In accordance with § 679.20(d)(1)(iv), the Regional Administrator sets the DFAs for the species and species groups in Table 25 at zero. Therefore, in accordance with § 679.20(d)(1)(iii), NMFS is prohibiting directed fishing by non-exempt AFA CVs in the GOA for the species and specified areas listed in Table 25. These closures will remain in effect through 2400 hrs, A.l.t., December 31, 2012.

Table 25—2011 and 2012 Non-Exempt AFA CV Sideboard Directed Fishing Closures for All Gear Types in the GOA
[Amounts for incidental catch in other directed fisheries are in metric tons]
Species | Regulatory area/district | Incidental catch amount
Pacific cod | Eastern | 14 (inshore) and 2 (offshore) in 2011.
|  | 13 (inshore) and 1 (offshore) in 2012.
Deep-water flatfish | Western | 0.
Rex sole | Eastern and Western | 1 and 3 in 2011.
|  | 1 and 2 in 2012.
Arrowtooth flounder | Eastern and Western | 1 and 17.
Flathead sole | Eastern and Western | 2 and 7.
Pacific ocean perch | Western | 6.
Northern rockfish | Western | 1.
Pelagic shelf rockfish | Entire GOA | 3.
Demersal shelf rockfish | SEO District | 1.
Sculpins | Entire GOA | 35.
Squids | Entire GOA | 7.

Section 680.22 provides for the management of non-AFA crab vessel sideboards using directed fishing closures in accordance with § 680.22(e)(2) and (3). The Regional Administrator has determined that the non-AFA crab vessel sideboards listed in Tables 17 and 18 are insufficient to support a directed fishery and has set the sideboard DFA at zero, with the exception of Pacific cod in the Western and Central Regulatory Areas. Therefore, NMFS is prohibiting directed fishing by non-AFA crab vessels in the GOA for all species and species groups listed in Tables 17 and 18, with the exception of Pacific cod in the Western and Central Regulatory Areas.

Section 679.82 provides for the management of Rockfish Program sideboard limits using directed fishing closures in accordance with § 679.82(d)(7)(i) and (ii). The Regional Administrator has determined that the CV sideboards listed in Table 19 are insufficient to support a directed fishery and has set the sideboard DFA at zero. Therefore, NMFS is closing directed fishing for Pacific ocean perch and pelagic shelf rockfish in the WYK District and the Western Regulatory Area and for northern rockfish in the Western Regulatory Area by CVs participating in the Central GOA Rockfish Program during the month of July in 2011. These closures will remain in effect through 2400 hrs, A.l.t., December 31, 2011.

Closures implemented under the 2010 and 2011 Gulf of Alaska harvest specifications for groundfish (75 FR 11749, March 12, 2010) remain effective under authority of these final 2011 and 2012 harvest specifications, and are posted at the following Web sites: http://alaskafisheries.noaa.gov/index/infobulletins/infobulletins.asp?Yr=2010, and http://alaskafisheries.noaa.gov/2010/status.htm. While these closures are in effect, the maximum retainable amounts at § 679.20(e) and (f) apply at any time during a fishing trip. These closures to directed fishing are in addition to closures and prohibitions found in regulations at 50 CFR part 679. NMFS may implement other closures during the 2011 and 2012 fishing years as necessary for effective conservation and management.

Response to Comments

NMFS did not receive any comments in response to the proposed 2011 and 2012 harvest specifications (75 FR 76352, December 8, 2010).

Classification

NMFS has determined that these final harvest specifications are consistent with the FMP and with the Magnuson-Stevens Act and other applicable laws.

This action is authorized under 50 CFR 679.20 and is exempt from review under Executive Order 12866.

NMFS prepared an EIS for this action (see ADDRESSES) and made it available to the public on January 12, 2007 (72 FR 1512). On February 13, 2007, NMFS issued the Record of Decision (ROD) for the EIS. In January 2011, NMFS prepared a Supplemental Information Report (SIR) for this action. Copies of the EIS, ROD, and SIR for this action are available from NMFS (see ADDRESSES). The EIS analyzes the environmental consequences of the groundfish harvest specifications and alternative harvest strategies on resources in the action area. The EIS found no significant environmental consequences of this action and its alternatives. The SIR evaluates the need to prepare a Supplemental EIS (SEIS) for the 2011 and 2012 groundfish harvest specifications.

A SEIS should be prepared if (1) the agency makes substantial changes in the proposed action that are relevant to environmental concerns, or (2) significant new circumstances or information exist relevant to environmental concerns and bearing on the proposed action or its impacts (40 CFR 1502.9(c)(1)). After reviewing the information contained in the SIR and SAFE reports, the Regional Administrator has determined that (1) approval of the 2011 and 2012 harvest specifications, which were set according to the preferred harvest strategy in the EIS, do not constitute a change in the action; and (2) there are no significant new circumstances or information relevant to environmental concerns and bearing on the action or its impacts. Additionally, the 2011 and 2012 harvest specifications will result in environmental impacts within the scope of those analyzed and disclosed in the EIS. Therefore, supplemental National Environmental Protection Act documentation is not necessary to implement the 2011 and 2012 harvest specifications.

NMFS also prepared an Initial Regulatory Flexibility Analysis (IRFA) as required by section 603 of the Regulatory Flexibility Act, analyzing the methodology for establishing the relevant TACs. The IRFA evaluated the impacts on small entities of alternative harvest strategies for the groundfish fisheries in the EEZ off Alaska. Accordingly, NMFS used the IRFA prepared for the EIS is association with this action. NMFS published a notice of availability of the IRFA and its summary in the Classification section of the proposed 2006 and 2007 harvest specifications for the GOA in the Federal Register on December 15, 2006 (71 FR 75460). No comments were received regarding the IRFA or on the economic effects of the TAC-setting methodology.

NMFS also prepared a Final Regulatory Flexibility Analysis (FRFA), as required by section 604 of the Regulatory Flexibility Act. Copies of the FRFA are available from NMFS, Alaska Region (see ADDRESSES). The FRFA analyzed the methodology for establishing the relevant TACs. As set forth in the methodology, TACs are set to a level that fall within the range of ABCs recommended by the SSC; the sum of the TACs must achieve optimum yield specified in the FMP. While the specific numbers that the methodology may produce vary from year to year, the methodology itself remains constant. Accordingly, NMFS is using the FRFA prepared for the EIS in association with this action. Pursuant to sections 3.2.3 and 3.2.4 of the FMP, the established methodology produces ABCs and TACs within specified ranges and the numbers in this final rule's preferred alternative are within those ranges.

In addition, NMFS considers the annual rulemakings establishing the harvest specification numbers to be a series of closely-related rules stemming from the harvest strategy and representing one rule for purposes of the Regulatory Flexibility Act (5 U.S.C. 605(c)). The need for, and objectives of, this final rule are described in the preamble. A summary of the 2007 FRFA follows. This action is taken in accordance with the FMP prepared by the Council pursuant to the Magnuson-Stevens Act.

The directly regulated small entities include approximately 747 small CVs and fewer than 20 small C/Ps in the GOA. The entities directly regulated by this action harvest groundfish in the EEZ of the GOA, and in parallel fisheries within State of Alaska waters. These include entities operating CVs and C/Ps within the action area, and entities receiving direct allocations of groundfish. CVs and C/Ps were considered to be small entities if they had annual gross receipts of $4 million per year or less from all economic activities, including the revenue of their affiliated operations (see Table 37 to the Economic Status of the Groundfish Fisheries off Alaska, 2005, in the 2006 SAFE report, dated February 2007, available from the Council (see ADDRESSES)).

Estimates of gross product value for the GOA groundfish were used as an index of revenue and potential impacts of the alternative harvest strategies on small entities. Revenues were projected to decline from 2006 levels in 2007 and 2008 under the preferred alternative due to declines in ABCs for key species, but by relatively small amounts. For example, the 2006 estimated earned revenue for GOA groundfish was 199.4 million dollars, with projected revenues of 192.2 million dollars and 199.2 million dollars in 2007 and 2008, respectively.

The preferred alternative (Alternative 2) was compared to four other alternatives. These included Alternative 1, which would have set TACs to generate fishing rates equal to the maximum permissible ABC (if the full TAC were harvested), unless the sum of TACs exceeded the GOA OY, in which case harvests would be limited to the OY. Alternative 3 would have set TACs to produce fishing rates equal to the most recent five-year average fishing rate. Alternative 4 would have set TACs to equal the lower limit of the GOA OY range. Alternative 5—the “no action” alternative—would have set TACs equal to zero.

Alternatives 3, 4, and 5 were all associated with smaller levels for important fishery TACs than Alternative 2. Estimated total gross product values were used as an index of potential adverse impacts to small entities. As a consequence of the lower TAC levels, Alternatives 3, 4, and 5 all had smaller first wholesale revenue indices than Alternative 2. Thus, Alternatives 3, 4, and 5 had greater adverse impacts on small entities. Alternative 1 appeared to generate higher values of the gross revenue index for fishing operations in the GOA than Alternative 2. A large part of the Alternative 1 GOA revenue appears to be due to the assumption that the full Alternative 1 TAC would be harvested. Much of the larger revenue was due to increases in flatfish TACs that were much greater for Alternative 1 than for Alternative 2. In recent years, halibut bycatch constraints in these fisheries have kept actual flatfish catches from reaching Alternative 1 levels. Therefore, a large part of the revenues associated with Alternative 1 are unlikely to occur. Also, Alternative 2 TACs are constrained by the ABCs the Plan Teams and SSC are likely to recommend to the Council on the basis of a full consideration of biological issues. These ABCs are often less than Alternative 1's maximum permissible ABCs; therefore higher TACs under Alternative 1 may not be consistent with prudent biological management of the resource. For these reasons, Alternative 2 is the preferred alternative.

In addition to the IRFA prepared in association with the groundfish harvest specifications EIS, NMFS prepared a supplemental IRFA (SIRFA) in conjunction with the proposed harvest specifications (see ADDRESSES). The SIRFA evaluated the specification of separate OFLs and TACs for squids, sharks, octopuses, and sculpins in the GOA, consistent with the previously selected harvest strategy, the tier system used to set OFL (per the FMP), Amendment 87 to the FMP, the Magnuson-Stevens Act, and other applicable law (see ADDRESSES). Amendment 87 to the FMP was published on September 22, 2010, and dissolved the “other species” complex into its component species of squids, sharks, octopuses, and sculpins.

This supplemental Final Regulatory Flexibility Analysis (SFRFA) incorporates the SIRFA, a summary of the significant issues raised by the public comments in response to the IRFA, NMFS' responses to those comments, and provides a summary of the analyses completed to support the action. The SFRFA augments the FRFA prepared in connection with the 2007 Alaska Groundfish Harvest Specification EIS.

NMFS published the proposed harvest specifications on December 8, 2010 (75 FR 76352) with comments invited through January 7, 2011. A SIRFA was prepared and summarized in the “Classification” section of the proposed rule. The description of this action, its purpose, and its legal basis are described in the preamble to the proposed rule and are not repeated here.

No public comments were specifically received on the SIRFA or on the economic impacts of this action more generally. No changes were made from the proposed rule to the final rule.

The 2010 Economic Status of Groundfish Fisheries Off Alaska report, prepared in conjunction with the 2010 SAFE report (see ADDRESSES), identifies 669 small groundfish entities operating in the GOA, with average revenues from all sources of about $600,000. Most of these (660) are C/Vs. A majority of the C/Vs (510), used hook-and-line gear and had average revenues of about $390,000. There were 73 trawl C/Vs, with average revenues of about $840,000, and 123 pot C/Vs with average revenues of $550,000. There were five C/Ps, mostly hook-and-line vessels, with average gross revenues of about $2.49 million. The 2010 SAFE report may overstate the number of small entities because it considers individual vessel gross revenues, but does not capture affiliations among vessels. All of these small entities would be directly regulated by this action. As described below, however, certain small entities may be more likely than others to be adversely affected by this action as a result of potential impacts associated with the incidental catch of sharks, octopuses, or squids in other target fisheries.

This action does not modify any recordkeeping or reporting requirements.

NMFS considered several alternatives to the action to specify separate OFLs and TACS for GOA sculpins, sharks, octopuses, and squids species complexes. However, each of these alternatives has been eliminated from further consideration because it either does not minimize significant economic impacts on a substantial number of small entities or does not accomplish the stated objectives of, or is in conflict with the requirements of, applicable statutes.

This action is intended to fulfill the agency's mandate to establish catch limits that are based on the best available scientific information, and to achieve optimum yield while preventing overfishing. This action adopts the alternative that is both consistent with the agency's obligations under the Magnuson-Stevens Act and the FMP and minimizes the likelihood that the specification of TACs and OFLs for the sculpin, sharks, octopuses, and squid species complexes will adversely affect small entities.

NMFS considered dividing the TACs for each of the species complexes among different regulatory areas in the GOA. Any such further division of the TACs would not change the total TACs for each species complex in the GOA as a whole. However, the incidental catch of fishing vessels that operate within each of the regulatory areas would be counted against a reduced TAC and OFL, which would increase the likelihood that the TAC or OFL would be reached and that one or more area closures may be triggered.

NMFS considered excusing small entities from compliance with the TACs for each of the species complexes evaluated in the SFRFA. However, the Magnuson-Stevens Act requires NMFS to implement conservation and management measures that prevent overfishing. Authorizing unlimited incidental catch of these species complexes by small entities would present an unacceptable risk of overfishing, and would not be consistent with the agency's obligations under Magnuson-Stevens Act, nor with the requirements of the Council's FMP.

In order to minimize the economic impacts of this action, NMFS considered allocating relatively large portions of the TACs for each of the species complexes to potentially affected small entities. However, any such allocation, which would be motivated solely by economic considerations under the Regulatory Flexibility Act, would not be consistent with National Standard 5, which states that “no [conservation and management measure] shall have economic allocation as its sole purpose.” 16 U.S.C. 1851(a)(5).

Finally, NMFS considered establishing a single group TAC for all four of the species complexes in the GOA, which would substantially reduce the likelihood that incidental catch would reach or exceed the TAC or OFL and result in area closures of target fisheries. However, the establishment of a stock complex comprised of species with such disparate life histories would not be consistent with the statutory requirement to establish catch limits that prevent overfishing for stocks in the fishery, nor with the Council's intent in enacting Amendment 87.

Adverse impacts on marine mammals resulting from fishing activities conducted under this rule are discussed in the EIS (see ADDRESSES).

Pursuant to 5 U.S.C. 553(d)(3), the Assistant Administrator for Fisheries, NOAA, finds good cause to waive the 30-day delay in effectiveness for this rule. Plan Team review occurred in November 2010, and Council consideration and recommendations occurred in December 2010. Accordingly, NMFS review could not begin until January 2011. For all fisheries not currently closed because the TACs established under the final 2010 and 2011 harvest specifications (75 FR 11749, March 12, 2010) were not reached, the possibility exists that they would be closed prior to the expiration of a 30-day delayed effectiveness period, if implemented, because their TACs could be reached. Certain fisheries, such as those for pollock and Pacific cod are intensive, fast-paced fisheries. Other fisheries, such as those for flatfish, rockfish, skates, squids, sharks, and octopuses are critical as directed fisheries and as incidental catch in other fisheries. U.S. fishing vessels have demonstrated the capacity to catch the TAC allocations in these fisheries. If a TAC is reached, NMFS would close directed fishing or prohibit retention for the applicable species, pending completion of the 30-day delayed effectiveness period. Any delay in allocating the final TACs in these fisheries would cause confusion to the industry and potential economic harm through unnecessary discards. Waiving the 30-day delay allows NMFS to prevent economic loss to fishermen that could occur should 2011 TACs be reached prior to the close of the 30 day delay. Determining which fisheries may close is impossible because these fisheries are affected by several factors that cannot be predicted in advance, including fishing effort, weather, movement of fishery stocks, and market price. Furthermore, the closure of one fishery has a cascading effect on other fisheries by freeing-up fishing vessels, allowing them to move from closed fisheries to open ones, increasing the fishing capacity in those open fisheries and causing them to close at an accelerated pace.

In fisheries subject to declining sideboards, a failure to implement the updated sideboards before initial season's end could preclude the intended economic protection to the non-sideboarded sectors. Conversely, in fisheries with increasing sideboards, economic benefit could be precluded to the sideboarded sectors.

If the final harvest specifications are not effective by March 12, 2011, which is the start of the 2011 Pacific halibut season as specified by the IPHC, the hook-and-line sablefish fishery will not begin concurrently with the Pacific halibut IFQ season. This would result in confusion for the industry and economic harm from unnecessary discard of sablefish that are caught along with Pacific halibut, as both hook-and-line sablefish and Pacific halibut are managed under the same IFQ program. Immediate effectiveness of the final 2011 and 2012 harvest specifications will allow the sablefish IFQ fishery to begin concurrently with the Pacific halibut IFQ season. Also, the immediate effectiveness of this action is required to provide consistent management and conservation of fishery resources based on the best available scientific information. This is particularly true of those species which have lower 2011 ABCs and TACs than those established in the 2010 and 2011 harvest specifications (75 FR 11749, March 12, 2010). Immediate effectiveness also would give the fishing industry the earliest possible opportunity to plan and conduct its fishing operations with respect to new information about TAC limits. Therefore, NMFS finds good cause to waive the 30-day delay in effectiveness under 5 U.S.C. 553(d)(3).

Small Entity Compliance Guide

The following information is a plain language guide to assist small entities in complying with this final rule as required by the Small Business Regulatory Enforcement Fairness Act of 1996. This final rule's primary purpose is to announce the final 2011 and 2012 harvest specifications and prohibited species bycatch allowances for the groundfish fisheries of the GOA. This action is necessary to establish harvest limits and associated management measures for groundfish during the 2011 and 2012 fishing years and to accomplish the goals and objectives of the FMP. This action affects all fishermen who participate in the GOA fisheries. The specific amounts of OFL, ABC, TAC, and PSC are provided in tables to assist the reader. NMFS will announce closures of directed fishing in the Federal Register and information bulletins released by the Alaska Region. Affected fishermen should keep themselves informed of such closures.

Authority: 16 U.S.C. 773 et seq.; 16 U.S.C. 1540(f), 1801 et seq.; 16 U.S.C. 3631 et seq.; Pub. L. 105-277; Pub. L. 106-31; Pub. L. 106-554; Pub. L. 108-199; Pub. L. 108-447; Pub. L. 109-241; Pub. L. 109-479.

Dated: February 22, 2011.
Samuel D. Rauch III,
Deputy Assistant Administrator for Regulatory Programs, National Marine Fisheries Service.

[FR Doc. 2011-4402 Filed 2-28-11; 8:45 am]

BILLING CODE 3510-22-P